ENVIRONMENTAL PROTECTION AGENCY

[EPA-HQ-OPP-2024-0094; FRL-12275-01-OCSPP]

Pesticide Registration Maintenance Fee: Product Cancellation Order for Certain Pesticide Registrations

AGENCY: Environmental Protection Agency (EPA).

ACTION: Notice.

SUMMARY: This notice announces EPA's order for the cancellation of certain pesticide products in association with fiscal year 2023 maintenance fee invoicing and collection. Table 1 of Unit III lists those products for which registrants have voluntarily requested cancellation pursuant to the Federal Insecticide, Fungicide, and Rodenticide Act (FIFRA). Table 3 of Unit III lists those products that EPA is cancelling for non-payment of annual maintenance fees, pursuant to FIFRA.

DATES: The cancellations are effective October 16, 2024.

FOR FURTHER INFORMATION CONTACT: Brenda Minnema, Registration Division (7505P), Office of Pesticide Programs, Environmental Protection Agency, 1200 Pennsylvania Ave. NW, Washington, DC 20460-0001; telephone number: (202) 566-2840; email address: minnema.brenda@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for these actions, identified by docket identification (ID) number EPA-HQ-OPP-2024-0094-0001, is available at https://www.regulations.gov, and the telephone number for the OPP Docket is (202) 566-1744.

II. Background

This cancellation order follows a notice that published in the Federal Register of July 26, 2024 (89 FR 60616) (FRL-11983-01) Notice of Receipt of Requests from the registrants listed in Table 2 of Unit III to voluntarily cancel these product registrations. In the July 26, 2024, notice EPA indicated that it would issue an order finalizing the cancellations, unless the Agency received substantive comments within the 30-day comment period that would merit its further review of these requests, or unless the registrants withdrew their requests. The Agency did not receive any comments or requests for withdrawal by the end of the comment period (August 25, 2024). Accordingly, EPA hereby issues in this notice a cancellation order granting the requested cancellations. Any distribution, sale, or use of the products subject to this cancellation order is permitted only in accordance with the terms of this order, including any existing stocks provisions.

FIFRA section 4(i)(1) (7 U.S.C. 136a-1(i)(1)) requires that all pesticide registrants pay an annual registration maintenance fee, due by January 15 of each year, to keep their registrations in effect. This requirement applies to all registrations granted under FIFRA section 3 (7 U.S.C. 136a) as well as those granted under FIFRA section 24(c) (7 U.S.C. 136v(c)) to meet special local needs. Registrations for which the fee is not paid are subject to cancellation by order and without a hearing pursuant to FIFRA section 4(i)(1)(M) (7 U.S.C. 136a-1(i)(1)(M)). Accordingly, no comment period was provided for the products listed in Table 3 of Unit III.

Under FIFRA, the EPA Administrator may reduce or waive maintenance fees for minor agricultural use pesticides when it is determined that the fee would be likely to cause significant impact on the availability of the pesticide for the use.

In fiscal year 2023, maintenance fees were collected in two billing cycles. An initial invoicing was sent out on December 1, 2022, reflecting the maintenance fee average annual collection target of $31 million specified under the Pesticide Registration Improvement Extension Act of 2018 (PRIA 4). The Pesticide Registration Improvement Act of 2022 (PRIA5), enacted December 29, 2022, raised the average annual collection target to $42 million. A supplemental invoicing to collect towards this increased target was sent out on January 26, 2023. In the invoicing, all holders of FIFRA section 3 registrations and FIFRA section 24(c) registrations were sent links to the lists of their active registrations, along with forms and instructions for responding. Registrants were asked to identify which of their registrations they wished to maintain in effect, and to calculate and remit the maintenance fees due for those registrations by the statutory deadline of January 17, 2023. A notice of intent to cancel was sent in December 2023 to companies who did not respond to EPA's invoices or that responded but did not pay all maintenance fees due for their registrations.

For fiscal year 2023, the Agency has waived the fees for 275 minor agricultural use or public health registrations at the request of the registrants. Maintenance fees have been paid for about 17,965 FIFRA section 3 registrations, or about 97% of the registrations on file in October 2022. Fees have been paid for about 1,810 FIFRA section 24(c) registrations, or about 85% of the total registrations on file in October 2022. Thus, cancellations for non-payment of the maintenance fee affect 131 FIFRA section 3 registrations and 44 FIFRA section 24(c) registrations.

Cancellation of registrations held by companies paying the fee at one of the capped payment amounts (see FIFRA section 4(i)(1)(D)) are considered voluntary cancellations under FIFRA section 6(f) and not cancellations for non-payment under FIFRA section 4(i)(1) because the registrations being cancelled could be maintained without an additional fee payment. These cancellations, discussed in Unit II.A, are subject to a 30-day comment period and are listed in Table 1 below.

The cancellation orders generally permit registrants to continue to sell and distribute existing stocks of the canceled products until 1 year after the date on which the fee was due. Existing stocks already in the hands of dealers or users, however, can generally be distributed, sold, or used legally until they are exhausted. Existing stocks are defined as those stocks of a registered pesticide product which are currently in the United States, and which have been packaged, labeled, and released for shipment prior to the effective date of the cancellation order.

The exceptions to these general rules are cases where more stringent restrictions on sale, distribution, or use of the products have already been imposed, through special reviews or other Agency actions. These general provisions for disposition of stocks should serve in most cases to cushion the impact of these cancellations while the market adjusts.

III. What action is the Agency taking?

This notice announces the cancellation of certain specified pesticide product registrations.

Table 1 of this unit lists products registered under FIFRA section 3 (7 U.S.C. 136a) for which the Agency has received a request for cancellation by the registrants. These registrations are listed in sequence by registration number. These registrations are cancelled by this order effective October 16, 2024 following the 30-day comment period ending August 25, 2024.

Table 1—Product Cancellations
Registration No. | Company No. | Product name | Active ingredient
100-1037 | 100 | Clipper E 20 UL Tree Growth Regulator | Paclobutrazol (125601/76738-62-0)—(2.51%).
100-885 | 100 | Dividend XL | Difenoconazole (128847/119446-68-3)—(16.5%), Metalaxyl-M (113502/70630-17-0)—(1.38%).
100-995 | 100 | Clipper 20 UL | Paclobutrazol (125601/76738-62-0)—(2.51%).
239-2666 | 239 | Weed-B-Gon Ready-Spray Isomer Formula | 2,4-D, dimethylamine salt (030019/2008-39-1)—(3.05%), Dicamba, dimethylamine salt (029802/2300-66-5)—(1.3%), MCPP-P, DMA salt (031520/66423-09-4)—(5.3%).
239-2694 | 239 | Ortho Season-Long Grass & Weed Killer | Diquat dibromide (032201/85-00-7)—(.1%), Glyphosate (417300/1071-83-6)—(8%), Oxyfluorfen (111601/42874-03-3)—(1.5%).
239-2706 | 239 | Ortho Season Long Weed & Grass Killer Plus Preventer Ready-Spray II | Diquat dibromide (032201/85-00-7)—(.1%), Glyphosate, isopropylamine salt (103601/38641-94-0)—(8%), Oxyfluorfen (111601/42874-03-3)—(1.5%).
239-2707 | 239 | Ortho Max Tree & Shrub Insect Control Ready-Spray II | Imidacloprid (129099/138261-41-3)—(1.47%).
264-998 | 264 | Four Way Peanut Seed Treatment Fungicide | Captan (081301/133-06-2)—(49%), Metalaxyl (113501/57837-19-1)—(.8%), Thiophanate-methyl (102001/23564-05-8)—(13.6%), Trifloxystrobin (129112/141517-21-7)—(2%).
270-339 | 270 | F793 Insecticide | Diflubenzuron (108201/35367-38-5)—(.24%).
279-3350 | 279 | F6482 Turf and IVM | Metribuzin (101101/21087-64-9)—(27%), Sulfentrazone (129081/122836-35-5)—(18%).
279-3552 | 279 | Accurate Herbicide | Metsulfuron (122010/74223-64-6)—(60%).
352-595 | 352 | Dupont Chlorimuron Ethyl 54 DF | Chlorimuron (128901/90982-32-4)—(54%).
352-877 | 352 | Dupont DPX-121 Herbicide | Rimsulfuron (129009/122931-48-0)—(16.7%), Thifensulfuron (128845/79277-27-3)—(16.7%).
464-616 | 464 | Dowicide 1/PG Antimicrobial | o-Phenylphenol (NO INERT USE) (064103/90-43-7)—(63%).
464-722 | 464 | Aqucar(TM) OPP 63 Water Treatment Microbiocide | o-Phenylphenol (NO INERT USE) (064103/90-43-7)—(63%).
499-535 | 499 | LX417 Lambda-Cyhalothrin | lambda-Cyhalothrin (128897/91465-08-6)—(9.7%).
538-303 | 538 | Grubex 2 | Imidacloprid (129099/138261-41-3)—(.2%).
577-558 | 577 | Sherwin-Williams Seaguard Vinyl Anti-Foulant | Cuprous oxide (025601/1317-39-1)—(66.9%).
577-559 | 577 | Sherwin-Williams Seaguard Vinyl Anti-Foulant Black | Cuprous oxide (025601/1317-39-1)—(55.7%).
577-561 | 577 | Mil-P-15931F Formula 121 Anti-Foulant Red | Cuprous oxide (025601/1317-39-1)—(69.69%).
577-562 | 577 | Mil-P-15931F Formula-129 Antifoulant Black | Cuprous oxide (025601/1317-39-1)—(57%).
675-1 | 675 | Vani-Sol Bowl Cleanse | Hydrochloric acid (045901/7647-01-0)—(23%).
777-108 | 777 | Gattuso GP | Citric acid (021801/77-92-9)—(3.5%).
777-129 | 777 | Phoenix Wipes | Alkyl* dimethyl benzyl ammonium chloride *(50%C14, 40%C12, 10%C16) (069105/68424-85-1)—(.355%).
961-368 | 961 | Lebanon Crab-Buster Plus Lawn Food | Dithiopyr (128994/97886-45-8)—(.06%).
961-412 | 961 | Lebanon Herbicide Granules Formula D-11 | Dithiopyr (128994/97886-45-8)—(.11%).
1022-594 | 1022 | Cusol-1 | Copper ethanolamine complex (024410/14515-52-5)—(2.92%).
1258-1042 | 1258 | Pace Spa & Hot Tub Chlorinator | Sodium dichloroisocyanurate dihydrate (081407/51580-86-0)—(99%).
1258-1066 | 1258 | Calcium Hypochlorite Sanitizer Granular—60 | Calcium hypochlorite (014701/7778-54-3)—(62%).
1258-1075 | 1258 | Pace Concentrated Algaecide | Trichloro-s-triazinetrione (081405/87-90-1)—(99%).
1258-1245 | 1258 | Arch Technical Trichloro-S-Triazinetrione | Trichloro-s-triazinetrione (081405/87-90-1)—(99.5%).
1258-1246 | 1258 | HTH Super Sock It Shock N' Swim Shock Treatment & Super chlorinator for Swimming | Calcium hypochlorite (014701/7778-54-3)—(62.4%).
1258-1259 | 1258 | HTH Duration Clean Capsules | Calcium hypochlorite (014701/7778-54-3)—(47.6%).
1258-1273 | 1258 | Pool Breeze Pool Care System 14 Day Sanitizing Tablets | Trichloro-s-triazinetrione (081405/87-90-1)—(99%).
1258-1274 | 1258 | Baquacil AD | Poly(oxy-1,2-ethanediyl(dimethylimino)-1,2-ethanediyl(dimethylimino)-1,2-ethanediyl dichloride) (069183/31512-74-0)—(20%).
1258-1280 | 1258 | Pool Breeze Pool Care System Copper Algicide | Copper triethanolamine complex (024403/82027-59-6)—(7.1%).
1258-1283 | 1258 | AW10 | Sodium dichloroisocyanurate dihydrate (081407/51580-86-0)—(99%).
1258-1321 | 1258 | Copper Algaecide | Copper triethanolamine complex (024403/82027-59-6)—(9%).
1258-1329 | 1258 | AW02 Tablets | Calcium hypochlorite (014701/7778-54-3)—(47.6%), Zinc sulfate monohydrate (527200/7446-19-7)—(1.96%).
1258-1331 | 1258 | AW01 Granular | Calcium hypochlorite (014701/7778-54-3)—(38.1%), Zinc sulfate monohydrate (527200/7446-19-7)—(11.8%).
1258-1332 | 1258 | AW07 | Calcium hypochlorite (014701/7778-54-3)—(53%).
1258-1334 | 1258 | AW09 | Calcium hypochlorite (014701/7778-54-3)—(47.1%).
1258-1337 | 1258 | AW13 | Trichloro-s-triazinetrione (081405/87-90-1)—(97.3%).
1258-1349 | 1258 | AW79 | Sodium hypochlorite (014703/7681-52-9)—(14%).
1258-1361 | 1258 | AW91 (Pro) | Calcium hypochlorite (014701/7778-54-3)—(75%).
1258-1363 | 1258 | SS Solid MUP | Poly(iminoimidocarbonyliminoimidocarbonyliminohexamethylene) hydrochloride (111801/32289-58-0)—(75%).
1258-995 | 1258 | Pace 14 Day Super Tab Concentrated Pool Chlorinator | Trichloro-s-triazinetrione (081405/87-90-1)—(99%).
2382-104 | 2382 | Preventic Tick Collar for Dogs | Amitraz (106201/33089-61-1)—(9%).
2724-687 | 2724 | Security E Z E Garden Weed Killer | Trifluralin (036101/1582-09-8)—(1.75%).
2724-794 | 2724 | WMI 0.67% Diflubenzuron Cattle Supplement | Diflubenzuron (108201/35367-38-5)—(.67%).
2724-795 | 2724 | WMI 0.04% Diflubenzuron Cattle | Diflubenzuron (108201/35367-38-5)—(.04%).
2724-798 | 2724 | RF2128 Dry Concentrate | Diflubenzuron (108201/35367-38-5)—(8%).
2724-801 | 2724 | RF 2128 Dry Concentrate MUP | Diflubenzuron (108201/35367-38-5)—(8%).
2724-816 | 2724 | RF2163 Dry Concentrate | Diflubenzuron (108201/35367-38-5)—(.16%).
2749-591 | 2749 | Aceto Etoxazole 72% WSB Miticide | Etoxazole (107091/153233-91-1)—(72%).
2749-595 | 2749 | Aceto Etoxazole 72% WP in WSP Miticide | Etoxazole (107091/153233-91-1)—(72%).
2749-603 | 2749 | AG36076 2.88 SC Miticide | Etoxazole (107091/153233-91-1)—(31.7%).
2749-619 | 2749 | AG35814 B 30 SG Insecticide | Acetamiprid (099050/135410-20-7)—(30%).
2749-620 | 2749 | AG35814 B 70 WP Insecticide | Acetamiprid (099050/135410-20-7)—(70%).
2749-621 | 2749 | AG35814 C 70 WP Insecticide | Acetamiprid (099050/135410-20-7)—(70%).
2749-622 | 2749 | AG35814 C 30 SG Insecticide | Acetamiprid (099050/135410-20-7)—(30%).
2935-506 | 2935 | Wilbur-Ellis Ben-Sul 85 | Sulfur (077501/7704-34-9)—(85%).
2935-555 | 2935 | Deadlock G | Zeta-Cypermethrin (129064/1315501-18-8)—(.25%).
4972-23 | 4972 | Protexall Ant-Kil | Boric acid (011001/10043-35-3)—(6%).
5383-202 | 5383 | Omniphase 678 | 1,2-Benzisothiazolin-3-one (098901/2634-33-5)—(4.6%), Carbamic acid, butyl-, 3-iodo-2-propynyl ester (107801/55406-53-6)—(5%), Carbendazim (128872/10605-21-7)—(15%).
5383-203 | 5383 | Omniphase 663 | 1,2-Benzisothiazolin-3-one (098901/2634-33-5)—(1.1%), Carbamic acid, butyl-, 3-iodo-2-propynyl ester (107801/55406-53-6)—(3%), Carbendazim (128872/10605-21-7)—(9%), Diuron (035505/330-54-1)—(15%).
7048-4 | 7048 | Bio-Magic Rinse | Alkyl* dimethyl benzyl ammonium chloride *(60%C14, 30%C16, 5%C18, 5%C12) (069104/53516-76-0)—(6%), Alkyl* dimethyl ethylbenzyl ammonium chloride *(50%C12, 30%C14, 17%C16, 3%C18) (069111/8045-21-4)—(6%).
7319-6 | 7319 | Lurectron Scatterbait | Methomyl (090301/16752-77-5)—(1%), cis-9-Tricosene (103201/27519-02-4)—(.26%).
7364-104 | 7364 | Sodium Bromide Powder | Sodium bromide (013907/7647-15-6)—(98%).
7364-105 | 7364 | AW Nova | Sodium dichloroisocyanurate dihydrate (081407/51580-86-0)—(99%).
7364-106 | 7364 | AW Dart | Sodium bromide (013907/7647-15-6)—(98%).
7364-89 | 7364 | Pool Pal 400 Algaecide | Alkyl* dimethyl benzyl ammonium chloride *(60%C14, 25%C12, 15%C16) (069137/68424-85-1)—(10%).
7754-41 | 7754 | Bug Barrier II | Diethyl toluamide (080301/134-62-3)—(25%), MGK 264 (057001/113-48-4)—(5%), MGK 326 (047201/136-45-8)—(2.5%).
7946-31 | 7946 | Arborfos HP | Dipotassium phosphite (K2HPO3) (076416/13492-26-7)—(45.8%).
9009-14 | 9009 | So-White 6.40% Hypochlorite Dairy, Farm & Home Use | Sodium hypochlorite (014703/7681-52-9)—(6.4%).
9198-115 | 9198 | The Andersons Turf Fungicide with 5.0% Daconil | Chlorothalonil (081901/1897-45-6)—(5%).
9198-207 | 9198 | Andersons Golf Products Golden Eagle Fungicide | Myclobutanil (128857/88671-89-0)—(1%).
9198-257 | 9198 | The Andersons 0.067% Acelepryn Insecticide Plus 0.222% Dimension Herbicide on F | Chlorantraniliprole (090100/500008-45-7)—(.067%), Dithiopyr (128994/97886-45-8)—(.222%).
9215-12 | 9215 | All Clear 3 Tablets Jumbo Chlorinating Tablets7 | Trichloro-s-triazinetrione (081405/87-90-1)—(99%).
10324-17 | 10324 | Maquat MQ2525-50 | 25.0000% Alkyl* dimethyl benzyl ammonium chloride *(60%C14, 30%C16, 5%C18, 5%C12) (PC:69104 CAS:53516-76-0) 25.0000% Alkyl* dimethyl ethylbenzyl ammonium chloride *(50%C12, 30%C14, 17%C16, 3%C18) (PC:69111 CAS:8045-21-4).
10324-26 | 10324 | Maquat MC 6025-50% | 50.0000% Alkyl* dimethyl benzyl ammonium chloride *(60%C14, 25%C12, 15%C16) (PC:69137 CAS:68424-85-1).
10324-98 | 10324 | Maquat MC5815 | 50.0000% Alkyl* dimethyl benzyl ammonium chloride *(58%C14, 28%C16, 14%C12) (PC:69141 CAS:68424-85-1).
10707-62 | 10707 | Biosorb 1250 | 23.0000% Glutaraldehyde (PC:43901 CAS:7420-89-5).
10707-63 | 10707 | XC408 Biocide | 30.0000% Alkyl* dimethyl benzyl ammonium chloride *(67%C12, 25%C14, 7%C16, 1%C18) (PC:69175 CAS:68391-01-5).
11556-111 | 11556 | Tempo 20WP Premise Insecticide | 20.0000% Cyclopropanecarboxylic acid, 3-(2,2-dichloroethenyl)-2,2-dimethyl-, cyano(4-fluoro-3-phenoxyphenyl) methyl ester (PC:128831 CAS:68359-37-5).
11556-112 | 11556 | Countdown EC Premise Insecticide | 24.3000% Cyclopropanecarboxylic acid, 3-(2,2-dichloroethenyl)-2,2-dimethyl-, cyano(4-fluoro-3-phenoxyphenyl) methyl ester (PC:128831 CAS:68359-37-5).
11556-113 | 11556 | Countdown WP Premise Insecticide in Packets | 20.0000% Cyclopropanecarboxylic acid, 3-(2,2-dichloroethenyl)-2,2-dimethyl-, cyano(4-fluoro-3-phenoxyphenyl) methyl ester (PC:128831 CAS:68359-37-5).
11556-140 | 11556 | Quickbayt Disposable Fly Bait Strip | 0.1000% (Z)-9-Tricosene (PC:103201 CAS:27519-02-4) 0.5000% Imidacloprid (PC:129099 CAS:138261-41-3).
11556-153 | 11556 | Credo D | 21.4000% Imidacloprid (PC:129099 CAS:138261-41-3).
11556-180 | 11556 | Premise Guard Insecticide | 0.0200% Cyclopropanecarboxylic acid, 3-(2,2-dibromoethenyl)-2,2-dimethyl-, cyano(3-phenoxyphenyl) methyl ester, (1R-(1.alpha.(S*),3.alpha.))- (PC:97805 CAS:66841-25-6).
11773-17 | 11773 | Cornbelt Trifluralin | 43.0000% Trifluralin (PC:36101 CAS:1582-09-8).
45385-17 | 45385 | Chem-Tox Pyronox Oil Concentrate #3610 | 10.0000% 4,7-Methano-1H-isoindole-1,3(2H)-dione, 2-(2-ethylhexyl)-3a,4,7,7a-tetrahydro- (PC:57001 CAS:113-48-4) 6.0000% Piperonyl butoxide (PC:67501 CAS:51-03-6) 3.0000% Pyrethrins (PC:69001 CAS:8003-34-7).
45385-20203 | 45385 | Chem-Tox Pro! Roach Kill Powder | 99.0000% Boric acid (PC:11001 CAS:11113-50-1).
45385-24 | 45385 | Pyronox Dual 0.5 | 1.6700% 4,7-Methano-1H-isoindole-1,3(2H)-dione, 2-(2-ethylhexyl)-3a,4,7,7a-tetrahydro- (PC:57001 CAS:113-48-4) 1.0000% Piperonyl butoxide (PC:67501 CAS:51-03-6) 0.5000% Pyrethrins (PC:69001 CAS:8003-34-7).
45385-30 | 45385 | Pyronox No.5 | 1.5000% Piperonyl butoxide (PC:67501 CAS:51-03-6) 0.3000% Pyrethrins (PC:69001 CAS:8003-34-7).
45385-43 | 45385 | Chem-Tox Mal 50%-E.C. | 50.0000% Malathion (NO INERT USE) (PC:57701 CAS:121-75-5).
45385-48 | 45385 | Pyronox Oil Concentrate #1-2-3 | 2.9400% 4,7-Methano-1H-isoindole-1,3(2H)-dione, 2-(2-ethylhexyl)-3a,4,7,7a-tetrahydro- (PC:57001 CAS:113-48-4) 2.0000% Piperonyl butoxide (PC:67501 CAS:51-03-6) 1.0000% Pyrethrins (PC:69001 CAS:8003-34-7) Pests (48):.
45385-62 | 45385 | Chem-Tox Wik-Rub Insecticide Concentrate | 0.6000% Piperonyl butoxide (PC:67501 CAS:51-03-6) 0.3000% Pyrethrins (PC:69001 CAS:8003-34-7).
45385-65 | 45385 | Chem-Tox Malathion 3% | 3.0000% Malathion (NO INERT USE) (PC:57701 CAS:121-75-5).
45385-69 | 45385 | Perma-Tox Insecticide | 13.3000% Permethrin, mixed cis,trans (PC:109701 CAS:52645-53-1).
45385-76 | 45385 | Cenol Mill Spray | 2.0000% Piperonyl butoxide (PC:67501 CAS:51-03-6) 0.5000% Pyrethrins (PC:69001 CAS:8003-34-7).
45385-8 | 45385 | Chem-Tox Food Plant Spray | 5.0000% Piperonyl butoxide (PC:67501 CAS:51-03-6) 0.5000% Pyrethrins (PC:69001 CAS:8003-34-7).
45385-94 | 45385 | Iguana | 26.0000% Cypermethrin (PC:109702 CAS:52315-07-8).
45385-98 | 45385 | Cenol 0.25% Multipurpose Insecticide | 0.2500% Permethrin, mixed cis,trans (PC:109701 CAS:52645-53-1).
48302-11 | 48302 | Sea Grand Prix 500 | 45.5600% Copper(I) oxide (PC:25601 CAS:1317-39-1) 2.9100% Zinc, bis(1-hydroxy-2(1H)-pyridinethionato-O,S)-, (T-4)-, (PC:88002 CAS:13463-41-7).
49547-16 | 49547 | CLNSL | 7.5000% Sodium hypochlorite (PC:14703 CAS:7681-52-9).
51032-14 | 51032 | Micro-Sul Dusting/Wettable Sulfur | Sulfur.
52287-1 | 52287 | Turf Fertilizer with Ronstar(R) 0.95 | 0.9500% Oxadiazon (PC:109001 CAS:19666-30-9).
52484-4 | 52484 | Bioclear 2250 Antimicrobial | 25.0000% Glutaraldehyde (PC:43901 CAS:7420-89-5).
52484-6 | 52484 | Bioclear 2256 Antimicrobial | 3.0000% 1-Decanaminium, N-decyl-N,N-dimethyl-, chloride (PC:69149 CAS:7173-51-5) 3.0000% Alkyl* dimethyl benzyl ammonium chloride *(50%C14, 40%C12, 10%C16) (PC:69105 CAS:68424-85-1) 25.0000% Glutaraldehyde (PC:43901 CAS:7420-89-5).
53853-7 | 53853 | FGI-S Ready-To-Use Insecticide | 0.0250% Esfenvalerate (PC:109303 CAS:66323-04-4).
53853-8 | 53853 | FGI PY/PBO Outdoor RTU Insecticide | 1.0000% Piperonyl butoxide (PC:67501 CAS:51-03-6) 0.1000% Pyrethrins (PC:69001 CAS:8003-34-7).
57787-30 | 57787 | Proteam 1 High Tech Tabs | 5.0000% Boron sodium oxide (B4Na2O7), pentahydrate (PC:11110 CAS:12179-04-3) 91.5000% Trichloro-s-triazinetrione (PC:81405 CAS:87-90-1).
57787-36 | 57787 | Proteam Power Magic AC+ Superoxidizer | 47.6000% Calcium hypochlorite (PC:14701 CAS:7778-54-3).
58401-13 | 58401 | Stellar Three-Inch Tablets | 99.4000% Trichloro-s-triazinetrione (PC:81405 CAS:87-90-1).
59106-9 | 59106 | Bioclear 2500 Antimicrobial | 51.1000% Glutaraldehyde (PC:43901 CAS:7420-89-5).
59682-4 | 59682 | Bioflex | 0.1570% Carbamic acid, butyl-, 3-iodo-2-propynyl ester (PC:107801 CAS:55406-53-6).
59825-5 | 59825 | Warwick B675 | 99.9500% Tetraacetylethylenediamine (PC:4115 CAS:10543-57-4).
59825-6 | 59825 | Warwick AG610 | 92.0000% Tetraacetylethylenediamine (PC:4115 CAS:10543-57-4).
61468-6 | 61468 | Creosote—Manufacturing Use | 98.5000% Coal tar creosote (PC:25004 CAS:8001-58-9).
61671-3 | 61671 | For-Mite | 65.9000% Formic acid (PC:214900 CAS:64-18-6).
62719-391 | 62719 | Kerb 50-W Selective Herbicide | 50.0000% Propyzamide (PC:101701 CAS:23950-58-5).
62719-72 | 62719 | Dursban 50W in Water Soluble Packets | 50.0000% Chlorpyrifos (PC:59101 CAS:2921-88-2).
63269-1 | 63269 | TMB 471C | 25.0000% Copper sulfate pentahydrate (PC:24401 CAS:7758-99-8).
63838-19 | 63838 | Biosene Granules | 93.9000% Trichloro-s-triazinetrione (PC:81405 CAS:87-90-1).
63838-23 | 63838 | Envirobrom L | 20.0000% 2,2-Dibromo-3-nitrilopropionamide (PC:101801 CAS:10222-01-2).
63838-31 | 63838 | Bio-X | 34.6500% Trichloro-s-triazinetrione (PC:81405 CAS:87-90-1).
63838-33 | 63838 | Drycide | 65.0000% Ethanol (PC:1501 CAS:64-17-5).
63838-35 | 63838 | EP-Q10 | 1.5000% 1-Decanaminium, N-decyl-N,N-dimethyl-, chloride (PC:69149 CAS:7173-51-5) 1.5000% 1-Octanaminium, N,N-dimethyl-N-octyl-, chloride (PC:69166 CAS:5538-94-3) 4.0000% Alkyl* dimethyl benzyl ammonium chloride *(50%C14, 40%C12, 10%C16) (PC:69105 CAS:68424-85-1) 3.0000% Ammonium, decyldimethyloctyl-, chloride (PC:69165 CAS:32426-11-2).
63838-36 | 63838 | EP-Q7.5 | 1.1250% 1-Decanaminium, N-decyl-N,N-dimethyl-, chloride (PC:69149 CAS:7173-51-5) 1.1250% 1-Octanaminium, N,N-dimethyl-N-octyl-, chloride (PC:69166 CAS:5538-94-3) 3.0000% Alkyl* dimethyl benzyl ammonium chloride *(50%C14, 40%C12, 10%C16) (PC:69105 CAS:68424-85-1) 2.2500% Ammonium, decyldimethyloctyl-, chloride (PC:69165 CAS:32426-11-2).
63838-38 | 63838 | GA-50 | 50.0000% Glutaraldehyde (PC:43901 CAS:7420-89-5).
63982-1 | 63982 | SKL390 Disinfectant Cleaner | 0.1670% Alkyl* dimethyl benzyl ammonium chloride *(60%C14, 30%C16, 5%C18, 5%C12) (PC:69104 CAS:53516-76-0) 0.1670% Alkyl* dimethyl ethylbenzyl ammonium chloride *(68%C12, 32%C14) (PC:69154 CAS:85409-23-0).
67071-108 | 67071 | Acticide BWL 10-F | 9.0000% 1,2-Benzisothiazolin-3-one (PC:98901 CAS:2634-33-5).
67867-5 | 67867 | Buggspray Insect Repellent for Biting Flies | 2.5000% 2,5-Pyridinedicarboxylic acid, dipropyl ester (PC:47201 CAS:136-45-8) 5.0000% 4,7-Methano-1H-isoindole-1,3(2H)-dione, 2-(2-ethylhexyl)-3a,4,7,7a-tetrahydro- (PC:57001 CAS:113-48-4) 25.0000% m-Toluamide, N,N-diethyl- (PC:80301 CAS:84603-69-0).
68539-16 | 68539 | Agricure | 85.0000% Carbonic acid, monopotassium salt (PC:73508 CAS:298-14-6).
68539-19 | 68539 | Botry-Zen WP | 45.0000% Ulocladium oudemansii (U3 Strain) (PC:102111 CAS:Unknown).
68889-1 | 68889 | Hawaii Fly Bait Brand Olive Fruit Fly | 0.3000% Spinosad (PC:110003 CAS:168316-95-8).
69340-5 | 69340 | Eogas AN1005 | 90.0000% Ethylene oxide (PC:42301 CAS:75-21-8).
69340-9 | 69340 | AN7514 | 97.0000% Ethylene oxide (PC:42301 CAS:75-21-8).
69526-10 | 69526 | PC Turf And Ornamentals | 98.0000% Mineral oil—includes paraffin oil from 063503 (PC:63502 CAS:64742-65-0).
69526-11 | 69526 | PC Herbicide Concentrate | 0.3400% Acetic acid, (2,4-dichlorophenoxy)-, compd. with N-methylmethanamine (1:1) (PC:30019 CAS:2008-39-1) 0.0420% Dimethylamine 3,6-dichloro-o-anisate (PC:29802 CAS:2300-66-5) 0.2200% Mecoprop-P-dimethylammonium (PC:31520 CAS:66423-09-4).
69526-12 | 69526 | PC RTU Herbicide | 0.0340% Acetic acid, (2,4-dichlorophenoxy)-, compd. with N-methylmethanamine (1:1) (PC:30019 CAS:2008-39-1) 0.0042% Dimethylamine 3,6-dichloro-o-anisate (PC:29802 CAS:2300-66-5) 0.0220% Mecoprop-P-dimethylammonium (PC:31520 CAS:66423-09-4).
69526-16 | 69526 | PC Herbicide RTU Plus | 0.0570% Acetic acid, (2,4-dichlorophenoxy)-, compd. with N-methylmethanamine (1:1) (PC:30019 CAS:2008-39-1) 0.0070% Dimethylamine 3,6-dichloro-o-anisate (PC:29802 CAS:2300-66-5) 0.0370% Mecoprop-P-dimethylammonium (PC:31520 CAS:66423-09-4).
69681-28 | 69681 | Clor Mor Cal-Shock SWB | 47.6000% Calcium hypochlorite (PC:14701 CAS:7778-54-3).
70062-4 | 70062 | Babolna Bio Hydroprene Technical | 95.0000% 2,4-Dodecadienoic acid, 3,7,11-trimethyl-, ethyl ester, (S-(E,E))- (PC:128966 CAS:65733-18-8).
70299-10 | 70299 | Greenclean Tablets | 42.5000% Sodium percarbonate (PC:128860 CAS:15630-89-4).
70299-24 | 70299 | Axxe Ready to Use Herbicide | 5.0000% Nonanoic acid, ammonium salt (PC:31802 CAS:63718-65-0).
70299-30 | 70299 | Nomas | 5.0000% Capric acid (PC:128955 CAS:334-48-5) 5.0000% Caprylic acid (PC:128919 CAS:124-07-2) 5.0000% Nonanoic acid (PC:217500 CAS:112-05-0).
70506-255 | 70506 | Harrier WDG | 85.0000% Oryzalin (PC:104201 CAS:19044-88-3).
70644-4 | 70644 | Nutrol LC | 35.0000% Potassium phosphate, monobasic (PC:76413 CAS:7778-77-0).
70909-5 | 70909 | Conceal Candle | 3.5000% 3,7-Dimethyl-1,6-octadien-3-ol (PC:128838 CAS:78-70-6).
80286-10 | 80286 | ISCA Myristyl Alcohol MP | 100.0000% Myristyl alcohol (PC:1510 CAS:112-72-1).
80286-14 | 80286 | ISCA CLM MP | 66.5000% Citrus leafminer lepidoptera pheromone (PC:29000 CAS:888042-38-4).
80286-16 | 80286 | Splat Tuta | 0.3000% 3,8,11-Tetradecatrien-1-ol, acetate, (3E,8Z,11Z)- (PC:11472 CAS:163041-94-9).
80286-17 | 80286 | ISCA Tuta MP | 96.3100% 3,8,11-Tetradecatrien-1-ol, acetate, (3E,8Z,11Z)- (PC:11472 CAS:163041-94-9).
80286-24 | 80286 | ISCA Lobesia MP | 77.6400% (E,Z)-7,9-Dodecadienyl acetate (PC:11471 CAS:55774-32-8).
80286-25 | 80286 | Splat Lobesia | 3.6000% (E,Z)-7,9-Dodecadienyl acetate (PC:11471 CAS:55774-32-8).
80286-26 | 80286 | Hook RPW | 3.0000% Cypermethrin (PC:109702 CAS:52315-07-8).
80286-27 | 80286 | ISCA FAW MP | 11.4400% (Z)-11-Hexadecenyl acetate (PC:129071 CAS:60037-58-3) 81.0000% 9-Tetradecen-1-ol, acetate, (9Z) (PC:129109 CAS:16725-53-4) 2.8590% Looplure (PC:11474 CAS:14959-86-5).
80286-29 | 80286 | Splat FAW Gl4 | 0.4800% (Z)-11-Hexadecenyl acetate (PC:129071 CAS:60037-58-3) 3.4000% 9-Tetradecen-1-ol, acetate, (9Z) (PC:129109 CAS:16725-53-4).
80286-32 | 80286 | MCH Bubble CAP | 97.9000% 3-Methyl-2-cyclohexen-1-one (PC:219700 CAS:1193-18-6).
80286-9 | 80286 | ISCA Lauryl Alcohol MP | 98.2000% Dodecyl alcohol (PC:1509 CAS:112-53-8).
82552-2 | 82552 | Concrobium Mold Control (MUP) | 0.9500% Sodium carbonate (PC:73506 CAS:497-19-8).
82669-2 | 82669 | Bio-UD-8 Spray | Methyl nonyl ketone 7.75.
82940-2 | 82940 | Elicitore | 12.0000% Organic acids derived from leonardite (PC:21818 CAS:Unknown).
82940-3 | 82940 | Pm-4300organic Acids | 18.5000% Organic acids derived from leonardite (PC:21818 CAS:Unknown).
84930-23 | 84930 | ARC-Metolazine Herbicide | 33.1000% Atrazine (PC:80803 CAS:1912-24-9) 26.1000% Metolachlor (PC:108801 CAS:51218-45-2).
85341-3 | 85341 | Revere Antimicrobial Copper | 96.2000% Copper as elemental (PC:22501 CAS:7440-50-8).
85493-1 | 85493 | Browseban EC—Animal Repellent | Capsaicin.
85678-28 | 85678 | Captan Technical II | 95.5000% Captan (PC:81301 CAS:133-06-2).
86182-4 | 86182 | STK-53 | 10.0000% Tea tree oil (PC:28853 CAS:68647-73-4).
86330-13 | 86330 | Sunspray Ultra-Fine Year-Round Pesticidal Oil | 98.8000% Aliphatic petroleum solvent (PC:63503 CAS:64742-89-8).
86330-15 | 86330 | Sunspray 6E Western | 98.8000% Aliphatic petroleum solvent (PC:63503 CAS:64742-89-8).
86330-2 | 86330 | Sunspray 7N | 100.0000% Aliphatic petroleum solvent (PC:63503 CAS:64742-89-8).
86330-3 | 86330 | Sunspray 7E | 98.8000% Aliphatic petroleum solvent (PC:63503 CAS:64742-89-8).
86330-4 | 86330 | Sunspray 11E | 98.8000% Aliphatic petroleum solvent (PC:63503 CAS:64742-89-8).
86330-6 | 86330 | Sunspray 6E | 98.8000% Aliphatic petroleum solvent (PC:63503 CAS:64742-89-8).
86330-8 | 86330 | Sunspray 9E | 98.8000% Aliphatic petroleum solvent (PC:63503 CAS:64742-89-8).
86330-9 | 86330 | Sunspray 9N | 100.0000% Aliphatic petroleum solvent (PC:63503 CAS:64742-89-8).
87193-1 | 87193 | Formula 691 | 0.3000% Cytokinin (as kinetin) (PC:116801 CAS:50868-58-1) 0.2500% Gibberellic acid (PC:43801 CAS:88-82-4) 0.1500% Indolebutyric acid (PC:46701 CAS:133-32-4).
87656-4 | 87656 | Bio-Spear Sanitizing Spray | 0.9000% 1-Decanaminium, N-decyl-N,N-dimethyl-, chloride (PC:69149 CAS:7173-51-5) 0.5400% 1-Octadecanaminium, N,N-dimethyl-N-(3-(trimethoxysilyl)propyl)-, chloride (PC:107401 CAS:27668-52-6).
87663-10 | 87663 | Emerion 8200 C8910 FA Dusting Powder | 2.0000% Capric acid (PC:128955 CAS:334-48-5) 10.0000% Caprylic acid (PC:128919 CAS:124-07-2) 3.0000% Nonanoic acid (PC:217500 CAS:112-05-0).
87663-3 | 87663 | Emerion 7020 Concentrate | 40.0000% Nonanoic acid, ammonium salt (PC:31802 CAS:63718-65-0).
87845-10 | 87845 | Colossal Pro Fungicide | 29.7300% 1H-1,2,4-Triazole, 1-((2-(2,4-dichlorophenyl)-4-propyl-1,3-dioxolan-2-yl)methyl)- (PC:122101 CAS:60207-90-1) 19.6200% 1H-1,2,4-Triazole-1-ethanol, .alpha.-(2-(4-chlorophenyl)ethyl)-.alpha.-(1,1-dimethylethyl)-, (+-), (PC:128997 CAS:107534-96-3).
88089-1 | 88089 | Sanogiene | 0.4000% Chitosan (PC:128930 CAS:9012-76-4) 22.5800% Hydantoin, 1,3-bis(hydroxymethyl)-5,5-dimethyl- (PC:115501 CAS:6440-58-0) 21.4200% Hydantoin, 1-(hydroxymethyl)-5,5-dimethyl- (PC:115502 CAS:27636-82-4).
88148-2 | 88148 | Ethylene | 98.5000% Ethylene (PC:41901 CAS:74-85-1).
89110-34 | 89110 | Bionix BCD98 | 98.0000% Hydantoin, 1(or 3)-bromo-3(or 1)-chloro-5,5-dimethyl- (PC:6333 CAS:32718-18-6).
89118-3 | 89118 | VCP-06 1.65 SC Fungicide | 18.4000% Azoxystrobin (PC:128810 CAS:131860-33-8).
89118-4 | 89118 | VCP-07 | 10.9000% Azoxystrobin (PC:128810 CAS:131860-33-8) 5.8000% Bifenthrin (PC:128825 CAS:83322-02-5).
91040-2 | 91040 | Waterworks Sulfosulf 75% WDG Herbicide | 75.0000% Sulfosulfuron (PC:85601 CAS:141776-32-1).
91069-2 | 91069 | Roach E. Reaper | 100.0000% Boric acid (PC:11001 CAS:11113-50-1).
91209-3 | 91209 | Terra San | 5.4000% Ethaneperoxoic acid (PC:63201 CAS:7722-84-1) 27.0000% Hydrogen peroxide (PC:595 CAS:7722-84-1).
91234-194 | 91234 | A381.02 | 70.8700% Acetochlor (PC:121601 CAS:34256-82-1).
91374-2 | 91374 | Horticol 75 | 100.0000% Aliphatic petroleum solvent (PC:63503 CAS:64742-89-8).
92068-3 | 92068 | MVX Antimicrobial Coat | 0.1000% Silver (PC:72501 CAS:7440-22-4).
92120-9 | 92120 | Hazel 310.1 | 0.1000% Cyclopropene,1-methyl- (PC:224459 CAS:3100-04-7).
92647-25 | 92647 | Tigris Clop + Flumet | 60.0000% 2-Pyridinecarboxylic acid, 3,6-dichloro-, potassium salt (PC:117423 CAS:58509-83-4) 18.5000% Flumetsulam (PC:129016 CAS:98967-40-9).
93051-7 | 93051 | Rightline Sulfosulf 75 WDG Herbicide | 75.0000% Sulfosulfuron (PC:85601 CAS:141776-32-1).
93051-9 | 93051 | Rightline Sulfosulf T&O | 75.0000% Sulfosulfuron (PC:85601 CAS:141776-32-1).
93507-1 | 93507 | Bio-Tape 48 | 95.0000% Diiodomethyl p-tolyl sulfone (PC:101002 CAS:20018-09-1).
93569-14 | 93569 | Genagri Paraquat MUP | 45.5000% Paraquat dichloride (PC:61601 CAS:39312-80-6).
93594-1 | 93594 | GTI Shield ZP50 | 50.0000% Zinc, bis(1-hydroxy-2(1H)-pyridinethionato-O,S)-, (T-4)-, (PC:88002 CAS:13463-41-7).
93908-3 | 93908 | Envirolyte Plus | Hypochlorous Acid .046.
94418-1 | 94418 | Xitrexx | 1.0000% 1-Octadecanaminium,N,N-dimethyl-N-[3-(trihydroxysilyl)propyl],chloride (PC:107403 CAS:199111-50-7).
94865-2 | 94865 | Paracetic Acid Sanitizer | 5.3000% Ethaneperoxoic acid (PC:63201 CAS:7722-84-1) 23.0000% Hydrogen peroxide (PC:595 CAS:7722-84-1).
95393-1 | 95393 | Quatrus Q-428 | 80.0000% Alkyl* dimethyl benzyl ammonium chloride *(50%C14, 40%C12, 10%C16) (PC:69105 CAS:68424-85-1).
95393-10 | 95393 | Quatrus Q-425 | 50.0000% Alkyl* dimethyl benzyl ammonium chloride *(50%C14, 40%C12, 10%C16) (PC:69105 CAS:68424-85-1).
95393-11 | 95393 | Quatrus Q-445 | 50.0000% 1-Decanaminium, N-decyl-N,N-dimethyl-, chloride (PC:69149 CAS:7173-51-5).
95393-12 | 95393 | Quatrus Q-465 | 50.0000% Alkyl* dimethyl benzyl ammonium chloride *(60%C14, 30%C16, 5%C18, 5%C12) (PC:69104 CAS:53516-76-0).
95393-13 | 95393 | Quatrus Q-468 | 80.0000% Alkyl* dimethyl benzyl ammonium chloride *(60%C14, 30%C16, 5%C18, 5%C12) (PC:69104 CAS:53516-76-0).
95393-15 | 95393 | Quatrus Q-2125M-80 | 40.0000% Alkyl* dimethyl benzyl ammonium chloride *(60%C12, 30%C14, 5%C16, 5%C18) (PC:79106 CAS:68391-01-5) 40.0000% Alkyl* dimethyl ethylbenzyl ammonium chloride *(68%C12, 32%C14) (PC:69154 CAS:85409-23-0).
95393-16 | 95393 | Quatrus Q-2125M-50 | 25.0000% Alkyl* dimethyl benzyl ammonium chloride *(60%C12, 30%C14, 5%C16, 5%C18) (PC:79106 CAS:68391-01-5) 25.0000% Alkyl* dimethyl ethylbenzyl ammonium chloride *(68%C12, 32%C14) (PC:69154 CAS:85409-23-0).
95393-17 | 95393 | Quatrus Q-2125M-50NA | 25.0000% Alkyl* dimethyl benzyl ammonium chloride *(60%C14, 30%C16, 5%C18, 5%C12) (PC:69104 CAS:53516-76-0) 25.0000% Alkyl* dimethyl ethylbenzyl ammonium chloride *(68%C12, 32%C14) (PC:69154 CAS:85409-23-0).
95393-2 | 95393 | Quatrus Q-448 | 80.0000% 1-Decanaminium, N-decyl-N,N-dimethyl-, chloride (PC:69149 CAS:7173-51-5).
95393-3 | 95393 | Quatrus Q-15 | 7.5000% 1-Decanaminium, N-decyl-N,N-dimethyl-, chloride (PC:69149 CAS:7173-51-5) 7.5000% 1-Octanaminium, N,N-dimethyl-N-octyl-, chloride (PC:69166 CAS:5538-94-3) 20.0000% Alkyl* dimethyl 3,4-dichlorobenzyl ammonium chloride *(50%C14, 40%C12, 10%C16) (PC:169101 CAS:68989-02-6) 15.0000% Ammonium, decyldimethyloctyl-, chloride (PC:69165 CAS:32426-11-2).
95393-4 | 95393 | Quatrus Q-050 | 12.5000% 1-Decanaminium, N-decyl-N,N-dimethyl-, chloride (PC:69149 CAS:7173-51-5) 12.5000% 1-Octanaminium, N,N-dimethyl-N-octyl-, chloride (PC:69166 CAS:5538-94-3) 25.0000% Ammonium, decyldimethyloctyl-, chloride (PC:69165 CAS:32426-11-2).
95393-5 | 95393 | Quatrus Q-125 | NO PEST.
95393-6 | 95393 | Quatrus Q-405 | NO PEST.
95393-7 | 95393 | Quatrus Q-24 | 12.0000% 1-Decanaminium, N-decyl-N,N-dimethyl-, chloride (PC:69149 CAS:7173-51-5) 12.0000% 1-Octanaminium, N,N-dimethyl-N-octyl-, chloride (PC:69166 CAS:5538-94-3) 32.0000% Alkyl* dimethyl benzyl ammonium chloride *(50%C14, 40%C12, 10%C16) (PC:69105 CAS:68424-85-1) 24.0000% Ammonium, decyldimethyloctyl-, chloride (PC:69165 CAS:32426-11-2).
95393-8 | 95393 | Quatrus Q-080 | 20.0000% 1-Decanaminium, N-decyl-N,N-dimethyl-, chloride (PC:69149 CAS:7173-51-5) 20.0000% 1-Octanaminium, N,N-dimethyl-N-octyl-, chloride (PC:69166 CAS:5538-94-3) 40.0000% Ammonium, decyldimethyloctyl-, chloride (PC:69165 CAS:32426-11-2).
95393-9 | 95393 | Quatrus Q-408 | 48.0000% 1-Decanaminium, N-decyl-N,N-dimethyl-, chloride (PC:69149 CAS:7173-51-5) 32.0000% Alkyl* dimethyl benzyl ammonium chloride *(50%C14, 40%C12, 10%C16) (PC:69105 CAS:68424-85-1).
96041-3 | 96041 | Sani-Spray | 0.1540% Alkyl* dimethyl benzyl ammonium chloride *(60%C14, 30%C16, 5%C18, 5%C12) (PC:69104 CAS:53516-76-0) 0.1540% Alkyl* dimethyl ethylbenzyl ammonium chloride *(68%C12, 32%C14) (PC:69154 CAS:85409-23-0) 21.0000% Isopropanol (PC:47501 CAS:67-63-0)
97956-1 | 97956 | WSK Disinfecting Wipes | Alkyl* dimethyl benzyl ammonium chloride *(50%C14, 40%C12, 10%C16) .388.
98022-1 | 98022 | Fresh | 6.0000% Chitosan (PC:128930 CAS:9012-76-4).
AZ110003 | 56 | Bait Block Rodentiicde with Peanut Butter Flavorizer | Diphacinone.
AL120003 | 100 | Gramoxone SL 2.0 | Paraquat dichloride.
AR120005 | 100 | Gramoxone SL 2.0 | Paraquat dichloride.
AZ120005 | 100 | Gramoxone SL 2.0 | Paraquat dichloride.
FL120004 | 100 | Gramoxone SL 2.0 | Paraquat dichloride.
ID120002 | 100 | Gramoxone SL 2.0 | Paraquat dichloride.
NV120001 | 100 | Gramoxone SL 2.0 | Paraquat dichloride.
OH190001 | 100 | Dual Magnum Herbicide | 83.7000% S-Metolachlor (PC:108800 CAS:87392-12-9).
SC120003 | 100 | Gramoxone SL 2.0 | Paraquat dichloride.
TX130009 | 100 | Gramoxone SL 2.0 | Paraquat dichloride.
WI170001 | 100 | Reflex Herbicide | Sodium salt of fomesafen (123802/108731-70-0)—(22.8%).
WY120004 | 100 | Gramoxone SL 2.0 | Paraquat dichloride (061601/1910-42-5)—(30.1%).
TX200001 | 228 | NUP-17063 Herbicide | 2, 4-DP-p, 2-ethylhexyl ester.
TX200004 | 228 | Freefall SC Cotton Defoliant | Thidiazuron.
TX210001 | 228 | NUP-17063 Herbicide | 2, 4-DP-p, 2-ethylhexyl ester.
AR160002 | 264 | Sivanto 200 SL | 17.0900% Flupyradifurone (PC:122304 CAS:951659-40-8).
CA980023 | 264 | Gustafson Captan 400 | Captan.
NE160001 | 264 | Sivanto 200 SL | 17.0900% Flupyradifurone (PC:122304 CAS:951659-40-8).
OR050025 | 264 | Admire Pro Systemic Protectant | Sulfentrazone (129081/122836-35-5)—(39.6%).
SC040002 | 264 | Hoelon 3EC | Diclofop.
WA050013 | 264 | Admire Pro Systemic Protectant | Imidacloprid.
AR070008 | 279 | Spartan 4F | 39.6000% Sulfentrazone (PC:129081 CAS:122836-35-5).
DE150003 | 279 | F6482 45DF Herbicide | 27.0000% Metribuzin (PC:101101 CAS:21087-64-9) 18.0000% Sulfentrazone (PC:129081 CAS:122836-35-5).
IA110001 | 279 | Spartan 4F | 39.6000% Sulfentrazone (PC:129081 CAS:122836-35-5).
ID140002 | 279 | F6482 45DF Herbicide | 27.0000% Metribuzin (PC:101101 CAS:21087-64-9) 18.0000% Sulfentrazone (PC:129081 CAS:122836-35-5).
IL140001 | 279 | Authority Elite | S-Metolachlor Sulfentrazone.
KS140001 | 279 | Authority MTZ DF | Metribuzin Sulfentrazone.
LA120014 | 279 | Spartan 4F | 39.6000% Sulfentrazone (PC:129081 CAS:122836-35-5).
LA120015 | 279 | F6482 45DF Herbicide | 27.0000% Metribuzin (PC:101101 CAS:21087-64-9) 18.0000% Sulfentrazone (PC:129081 CAS:122836-35-5).
LA140004 | 279 | F9016-2 DF Herbicide | 3.8800% Chlorimuron (PC:128901 CAS:90982-32-4) 62.1200% Sulfentrazone (PC:129081 CAS:122836-35-5).
MD150002 | 279 | F6482 45DF Herbicide | 27.0000% Metribuzin (PC:101101 CAS:21087-64-9) 18.0000% Sulfentrazone (PC:129081 CAS:122836-35-5).
MN100003 | 279 | Spartan Charge Herbicide | Sulfentrazone Carfentrazone-ethyl.
MN150001 | 279 | F7583-3 Herbicide | 68.2500% S-Metolachlor (PC:108800 CAS:87392-12-9) 7.5500% Sulfentrazone (PC:129081 CAS:122836-35-5).
MN220006 | 279 | F7127 SE Herbicide | 3.5300% Carfentrazone-ethyl (PC:128712 CAS:128639-02-1) 31.7700% Sulfentrazone (PC:129081 CAS:122836-35-5).
MS130004 | 279 | Spartan Charge Herbicide | Sulfentrazone Carfentrazone-ethyl.
NE140001 | 279 | F6482 45DF Herbicide | 27.0000% Metribuzin (PC:101101 CAS:21087-64-9) 18.0000% Sulfentrazone (PC:129081 CAS:122836-35-5).
OH130004 | 279 | Spartan Charge Herbicide | Sulfentrazone Carfentrazone-ethyl.
OH140002 | 279 | Aim EC | 22.3000% Carfentrazone-ethyl (PC:128712 CAS:128639-02-1).
TN050002 | 279 | Spartan 4F | Sulfentrazone.
TN070004 | 279 | Spartan 4F | Sulfentrazone.
TN090003 | 279 | Authority MTZ DF Herbicide | Metribuzin Sulfentrazone.
TN100001 | 279 | Spartan Charge | Sulfentrazone Carfentrazone-ethyl.
TN140001 | 279 | Spartan Charge Herbicide | Sulfentrazone Carfentrazone-ethyl.
TX120011 | 279 | Spartan 4F | Sulfentrazone.
TX120012 | 279 | F6482 45DF Herbicide | Metribuzin Sulfentrazone.
VA150005 | 279 | F6482 45DF Herbicide | Metribuzin Sulfentrazone.
WI130005 | 279 | Spartan 4F | Sulfentrazone (129081/122836-35-5)—(39.6%).
WY140001 | 279 | F6482 45DF Herbicide | Metribuzin (101101/21087-64-9)—(27%), Sulfentrazone (129081/122836-35-5)—(18%).
AL930004 | 400 | Dimilin 25W for Cotton/Soybean | Diflubenzuron.
CA970009 | 400 | Dimilin 25W for Cotton/Soybean | Diflubenzuron.
CA970019 | 400 | Dimilin 25W for Cotton/Soybean | Diflubenzuron.
CA970021 | 400 | Dimilin 25W for Cotton/Soybean | Diflubenzuron.
FL010010 | 400 | Micromite 25WS | Diflubenzuron.
FL090010 | 400 | Micromite 80WG | 80.0000% Diflubenzuron (PC:108201 CAS:35367-38-5).
FL910014 | 400 | Dimilin 25W for Cotton/Soybean | Paraquat dichloride.
GA060002 | 400 | Dimilin 2L | Diflubenzuron.
GA060007 | 400 | Dimilin 2L | Diflubenzuron.
ID000013 | 400 | Dimilin 2L | 22.0000% Diflubenzuron (PC:108201 CAS:35367-38-5).
LA080001 | 400 | Dimilin 25W | Transferred (2021-06-09) New product: 70506-526.
MS870002 | 400 | Dimilin 25W for Cotton/Soybean | Paraquat dichloride.
NV940003 | 400 | Dimilin 25W for Cotton/Soybean | Paraquat dichloride.
OK890003 | 400 | Dimilin 25W for Cotton/Soybean | Saflufenacil (118203/372137-35-4)—(29.74%).
SC060001 | 400 | Dimilin 2L | Diflubenzuron.
TX110007 | 400 | Micromite 80WG | Diflubenzuron.
WA020008 | 400 | Dimilin 2L | Diflubenzuron.
NC120008 | 1015 | Dow Agrosciences/Profume Gas Fumigant | Sulfuryl flouride.
FL160001 | 7969 | Poast Herbicide | 18.0000% Sethoxydim (PC:121001 CAS:74051-80-2).
MT120003 | 7969 | Liberty 280 SL Herbicide | 24.5000% Butanoic acid, 2-amino-4-(hydroxymethylphosphinyl)-, monoammonium salt (PC:128850 CAS:77182-82-2).
NC150006 | 7969 | Armezon Herbicide | 29.7000% Topramezone (PC:123009 CAS:210631-68-8).
NE070001 | 7969 | Status Herbicide | 17.1000% 3-Pyridinecarboxylic acid, 2-{1-{{{(3,5-difluorophenyl)amino}carbonyl}hydrozono}ethyl}-, monosodium salt (PC:5107 CAS:109293-98-3).
SC170001 | 7969 | Poast Herbicide | Sethoxydim.
SD090007 | 7969 | Emerald Fungicide | Boscalid.
OK110002 | 8033 | F5688 11% ME Insecticide Termiticide | Boscalid (128008/188425-85-6)—(70%).
NY120004 | 8959 | AB Fluridone Aquatic Herbicide | 41.7000% Fluridone (PC:112900 CAS:59756-60-4).
WA170003 | 10163 | Sonalan HFP | Ethalfluralin (113101/55283-68-6)—(35.4%).
WA170004 | 10163 | Treflan TR-10 | Trifluralin (036101/1582-09-8)—(10%).
GA080010 | 59639 | Knack Insect Growth Regulator | 11.2300% Pyriproxyfen (PC:129032 CAS:95737-68-1).
AR130012 | 62719 | Lorsban Advanced | Diflubenzuron.
CA080014 | 62719 | Lorsban Advanced | Chlopyrifos.
CO100004 | 62719 | Lorsban Advanced | Chlorpyrifos.
FL040005 | 62719 | Lorsban* 75WG | Chlorpyrifos.
FL090002 | 62719 | Lorsban Advanced | Chlorpyrifos.
GA100001 | 62719 | Lorsban Advanced | Chlorpyrifos.
GA180001 | 62719 | Lorsban Advanced | Chlorpyrifos.
ID030006 | 62719 | Lorsban 50W Insecticide in Water Soluble Packets | Chlorpyrifos.
ID090002 | 62719 | Lorsban Advanced | Chlorpyrifos.
ID090003 | 62719 | Lorsban Advanced | Chlorpyrifos.
ID090004 | 62719 | Lorsban Advanced | Chlorpyrifos.
KY090030 | 62719 | Lorsban Advanced | Chlorpyrifos.
LA090002 | 62719 | Lorsban Advanced | Chlorpyrifos.
LA150004 | 62719 | Lorsban Advanced | Chlorpyrifos.
MI110006 | 62719 | Lorsban 15G | Chlorpyrifos.
MS080007 | 62719 | Lorsban Advanced | Chlorpyrifos.
NC090001 | 62719 | Lorsban Advanced | Chlorpyrifos.
NC090004 | 62719 | Lorsban Advanced | Chlorpyrifos.
OR090007 | 62719 | Lorsban Advanced | Chlorpyrifos.
OR090008 | 62719 | Lorsban Advanced | Chlorpyrifos.
OR090009 | 62719 | Lorsban Advanced | Chlorpyrifos.
OR090010 | 62719 | Lorsban Advanced | Chlorpyrifos.
OR090011 | 62719 | Lorsban Advanced | Chlorpyrifos.
OR090012 | 62719 | Lorsban Advanced | Chlorpyrifos.
OR090013 | 62719 | Lorsban Advanced | Chlorpyrifos.
TX180004 | 62719 | Lorsban Advanced | Chlorpyrifos.
VA090001 | 62719 | Lorsban Advanced | Chlorpyrifos.
WA090002 | 62719 | Lorsban Advanced | Chlorpyrifos.
WA090004 | 62719 | Lorsban Advanced | Chlorpyrifos.
WA090010 | 62719 | Lorsban Advanced | Chlorpyrifos.
WA090011 | 62719 | Lorsban Advanced | Chlorpyrifos.
WA090012 | 62719 | Lorsban Advanced | Chlorpyrifos.
WI130006 | 62719 | Lorsban 15G | Chlorpyrifos.
AR120014 | 66222 | Diuron 4L | 40.0000% Diuron (PC:35505 CAS:330-54-1).
DE140001 | 66222 | Metribuzin 75WG | 75.0000% Metribuzin (PC:101101 CAS:21087-64-9).
GA120001 | 66222 | Diuron 4L | 40.0000% Diuron (PC:35505 CAS:330-54-1).
ID130004 | 66222 | Fanfare 2 ES Insecticide/Miticide | Bifenthrin.
LA110008 | 66222 | Parallel PCS | 86.4000% Metolachlor (PC:108801 CAS:51218-45-2).
LA120008 | 66222 | Diuron 4L | 40.0000% Diuron (PC:35505 CAS:330-54-1).
MS120011 | 66222 | Diuron 4L | 40.0000% Diuron (PC:35505 CAS:330-54-1).
NJ140003 | 66222 | Metribuzin 75WG | 75.0000% Metribuzin (PC:101101 CAS:21087-64-9).
NV060009 | 66222 | Rimon 0.83 EC | Novaluron.
PA130003 | 66222 | Metribuzin 75WG | Metribuzin.
WV130001 | 66222 | Metribuzin 75WG | Metribuzin (101101/21087-64-9)—(75%).
CA100001 | 69526 | Petro-Canada Purespray Green | Chlorpyrifos.
AL120006 | 69969 | Avipel (Dry) Corn Seed Treatment | Anthraquinone.
AR130004 | 69969 | Avipel (Dry) Corn Seed Treatment | Anthraquinone.
DE120001 | 69969 | Avipel (Dry) Corn Seed Treatment | Anthraquinone.
IA170004 | 69969 | Avipel (Dry) Corn Seed Treatment | Anthraquinone.
ID130007 | 69969 | Avipel (Dry) Corn Seed Treatment | Anthraquinone.
LA120007 | 69969 | Avipel (Dry) Corn Seed Treatment | Anthraquinone.
MD120001 | 69969 | Avipel (Dry) Corn Seed Treatment | Anthraquinone.
ME120002 | 69969 | Avipel (Dry) Corn Seed Treatment | Anthraquinone.
MO160004 | 69969 | Avipel (Dry) Corn Seed Treatment | Anthraquinone.
MS120010 | 69969 | Avipel (Dry) Corn Seed Treatment | Anthraquinone.
ND130001 | 69969 | Avipel (Dry) Corn Seed Treatment | Anthraquinone.
NH120001 | 69969 | Avipel (Dry) Corn Seed Treatment | Anthraquinone.
NJ130001 | 69969 | Avipel (Dry) Corn Seed Treatment | Anthraquinone.
NY170006 | 69969 | Avipel Hopper Box (Dry) Corn Seed Treatment | Anthraquinone.
OH170001 | 69969 | Avipel Hopper Box (Dry) Corn Seed Treatment | Sulfentrazone Carfentrazone-ethyl.
TX130002 | 69969 | Avipel (Dry) Corn Seed Treatment | Anthraquinone.
UT180005 | 69969 | Avipel (Dry) Corn Seed Treatment | Anthraquinone.
VT120002 | 69969 | Avipel (Dry) Corn Seed Treatment | Anthraquinone (122701/84-65-1)—(50%).
WI190003 | 69969 | Avipel | Anthraquinone (122701/84-65-1)—(50%).
CA140006 | 71512 | Beleaf 50SG Insecticide | 50.0000% Flonicamid (PC:128016 CAS:158062-67-0).
CA100012 | 73049 | Dipel DF Biological Insecticide | 54.0000% Bacillus thuringiensis Subsp. Kurstaki, Strain ABTS-351, fermentaion solids, spores, and insecticidal toxins (PC:6522 CAS:68038-71-1).
CA920002 | 73049 | Promalin Plant Growth Regulator | 1.8000% Adenine, N-benzyl- (PC:116901 CAS:1214-39-7) 1.8000% Gibberellin A4 mixt. with Gibberellin A7 (PC:116902 CAS:8030-53-3).
DE090002 | 73049 | Vectobac WDG | 37.4000% Bacillus thuringiensis subspecies israelensis strain AM 65-52 solids, spores and insecticidal toxins (PC:69162 CAS:68038-71-1).
ND010004 | 73049 | Dipel ES | 23.7000% Bacillus thuringiensis Subsp. Kurstaki, Strain ABTS-351, fermentaion solids, spores, and insecticidal toxins (PC:6522 CAS:68038-71-1).
TX020001 | 73049 | Dipel ES | Bacillus thuringiensis subspecies tenebrionis, strain NB-176 (006524/68038-71-1)—(10%).
WA040029 | 73049 | Novodor Biological Insecticide Flowable Concentrate | Bacillus thuringiensis subspecies tenebrionis.
UT200001 | 88058 | Oxamyl 24 Insecticide/Nematicide | Oxamyl.

Table 2 of this unit lists the names and addresses of record for all registrants of the products in Table 1 of this unit, in sequence by EPA company number. This company number corresponds to the first part of the EPA registration numbers of the products listed in this unit.

Table 2—Registrants Requesting Voluntary Cancellation
EPA company No. | Company name and address
56 | J.T. Eaton & Co., Inc., 1393 E Highland Road, Twinsburg, OH 44087.
100 | Syngenta Crop Protection, LLC, 410 Swing Road, Greensboro, NC 27419.
239 | The Scotts Company, P.O. Box 190, Marysville, OH 43040.
264 | Bayer Crop Science, LP, 800 N Lindbergh Blvd., St. Louis, MO 63141.
270 | Farnam Companies, Inc., 1501 E Woodfield Road, Suite 200 West, Schaumburg, IL 60173.
352 | Corteva Agriscience, LLC, 9330 Zionsville Road, Indianapolis, IN 46268.
464 | MC (US) 3, LLC, 1652 Larkin Center Drive, Midland, MI 48642.
499 | BASF Corporation, P.O. Box 13528, Research Triangle Park, NC 27709-3528.
538 | The Scotts Company, P.O. Box 190, Marysville, OH 43040.
577 | The Sherwin-Williams Company, 101 Prospect Ave., Cleveland, OH 44115.
675 | Reckitt Benckiser, LLC, 399 Interpace Parkway, Parsippany, NJ 07054-0225.
777 | Reckitt Benckiser, LLC, 399 Interpace Parkway, Parsippany, NJ 07054-0225.
961 | Lebanon Seaboard Corporation, 1600 East Cumberland Street, Lebanon, PA 17042.
1022 | IBC Manufacturing Co., 416 East Brooks Road, Memphis, TN 381092931.
1258 | Innovative Water Care, LLC, 1300 Altura Road, Suite 125, Fort Mill, SC 29708.
2382 | Virbac Ah, Inc., P.O. Box 162059, Fort Worth, TX 76161.
2724 | Wellmark International, 1501 E Woodfield Road, Suite 200 West, Schaumburg, IL 60173.
2749 | Aceto Life Sciences, LLC, 4 Tri Harbor Court, Port Washington, NY 11050.
2935 | Wilbur-Ellis Company, LLC, 2903 S Cedar Ave., Fresno, CA 93725.
4972 | Protexall Products, Inc., 73356 Highway 41, Pearl River, LA 70452.
5383 | Troy Corporation, 8 Vreeland Road, Florham Park, NJ 07932.
7048 | Edmar Chemical Company, P.O. Box 598, Chagrin Falls, OH 44022-0598.
7319 | Denka Registrations BV, 4 Tar Rock Rd., Westport, CT 06880.
7364 | Innovative Water Care, LLC D/B/A GLB Pool & Spa, 1400 Bluegrass Lakes Parkway, Alpharetta, GA 30004.
7754 | ARI, P.O. Box 510, Orchard Hill, GA 30266.
7946 | J.J. Mauget Co., 5435 Peck Road, Arcadia, CA 91006.
8660 | United Industries Corp. D/B/A Sylorr Plant Corp., P.O. Box 142642, St. Louis, MO 63114-0642.
9009 | Online Packaging, Inc., 4311 Liberty Lane, Plover, WI 54467.
9198 | The Andersons, Inc., 1947 Briarfield Blvd., Maumee, OH 43537.
9215 | Aqua Tri, 17872 Mitchell N., Irvine, CA 92614-6034.
10324 | Mason Chemical Company, 9075 Centre Pointe Dr., Suite 400, West Chester, OH 45069.
10707 | Baker Petrolite, LLC, 12645 West Airport Blvd., Sugar Land, TX 77478.
11556 | Elanco US, Inc., 2500 Innovation Way, Greenfield, IN 46140.
11773 | Van Diest Supply Company, P.O. Box 610, Webster City, IA 50595.
45385 | Ctx-Cenol, Inc., 1393 East Highland Rd., Twinsburg, OH 44087.
48302 | Chugoku Marine Paints (U.S.A.), Inc. D/B/A CMP Coatings, Inc., 1610 Engineers Road, Belle Chasse, LA 70037.
49547 | Alen Del Norte, S.A. De C.V., c/o Delta Analytical Corp., 12510 Prosperity Drive, Suite 160, Silver Spring, MD 20904.
51032 | Hondo, Inc., P.O. Box 9931, Bakersfield, CA 93389.
52287 | Harrell's, LLC, P.O. Box 807, Lakeland, FL 33802.
52484 | The Lubrizol Corporation, 29400 Lakeland Blvd., Wickliffe, OH 44092-8898.
53853 | The Fountainhead Group, Inc. D/B/A Burgess Products, 23 Garden Street, New York Mills, NY 13417.
54555 | Alzchem, LLC, 11390 Old Roswell Road, St. 124, Alpharetta, GA 30009.
57787 | Haviland Consumer Products, Inc., 421 Ann Street, NW, Grand Rapids, MI 49504.
58401 | Stellar Manufacturing, Co., 1647 Sauget Business Blvd., Sauget, IL 62206.
59106 | The Lubrizol Corporation, 29400 Lakeland Blvd., Wickliffe, OH 44092-2298.
59682 | Controlled Release Technologies, Inc., 1016 Industry Drive, Shelby, NC 28152.
59825 | The Lubrizol Corporation, 29400 Lakeland Blvd., Wickliffe, OH 44092-8898.
61468 | Koppers, Inc., 436 Seventh Avenue, K-1900, Pittsburgh, PA 15219-1800.
61671 | Mann Lake Ltd., 501 1st Street South, Hackensack, MN 56452-2001.
63269 | Thornton, Musso & Bellemin, Inc., P.O. Box 181, Zachary, LA 70791.
63838 | Enviro Tech Chemical Services, Inc., 500 Winmoore Way, Modesto, CA 95358.
63982 | B&B Blending, LLC, 10963 Leroy Drive, Northglenn, CO 80233.
67071 | Thor Specialties, Inc., 50 Waterview Drive, Shelton, CT 06484.
67867 | Bugg Products, LLC, 14505-21st Ave., N, Suite 214, Plymouth, MN 55447.
68539 | Bioworks, Inc. D/B/A Bioworks, 100 Rawson Road, Suite 205, Victor, NY 14564.
68889 | Tephritid Control, Inc., 87-3599 Mamalahoa Hwy., Captain Cook, HI 96704.
69340 | Andersen Sterilizers, Inc., Health Science Park, 3154 Caroline Drive, Haw River, NC 27258.
69526 | Petro-Canada Lubricants, Inc., 401 Plymouth Road Suite 350, Plymouth Meeting, PA 19462.
69681 | Allchem Performance Products, 416 South Main Street, Corsicana, TX 75110.
70062 | Management Contract Services, Inc., Landis International, Inc., P.O. Box 5126, Valdosta, GA 31603-5126.
70299 | Biosafe Systems, LLC, 22 Meadow Street, East Hartford, CT 06108.
70644 | Lidochem, Inc., 20 Village Court, Hazlet, NJ 07730.
70909 | Biosensory, Inc., 620 Main Street, Ste. 3A, East Greenwich, RI 02818.
71049 | Kim-C1, LLC, 726 W Barstow Avenue, Sute 108, Fresno, CA 93704.
73049 | Valent Biosciences, LLC, 1910 Innovation Way, Suite 100, Libertyville, IL 60048.
80286 | ISCA Technologies, Inc., 1230 W Spring Street, Riverside, CA 92507.
82552 | Rust-Oleum Corporation, 11. E Hawthorn Parkway, Vernon Hills, IL 60061.
82669 | Homs, LLC, 193 Lorax Lane, Pittsboro, NC 27312.
82940 | Actagro, LLC, 4516 N Howard Avenue, Kerman, CA 93630.
85341 | Revere Copper Products, Inc., One Revere Park, Rome, NY 13440.
85678 | Redeagle International, LLC, 5143 S Lakeland Drive, Suite 4, Lakeland, FL 33813.
86182 | Wagner Regulatory Associates, Inc., Agent For: Stockton (Israel) Ltd., P.O. Box 640, Hockessin, DE 19707.
86330 | Hollyfrontier Refining & Marketing, LLC, 401 Plymouth Road, Suite 350, Plymouth Meeting, PA 19462.
87193 | United Agricultural Services of America, Inc., Agent For: Custom Liquid Solutions, LLC, 534 CR 529A, Lake Panasoffkee, FL 33538.
87373 | Argite, LLC, 940 NW Cary Parkway, Suite 200, Cary, NC 27513.
87656 | Flex Ai, LLC, 5300 Derry Street, Harrisburg, PA 17111.
87663 | Emery Oleochemicals, LLC, 4900 Este Avenue, Cincinnati, OH 45232.
87845 | D. O'Shaughnessy Consulting, Inc., Agent For: Agromarketing Co., Inc., 206 Traditions Blvd., Bowling Green, KY 42103.
88089 | Biomed Protect, LLC, 1100 Corporate Square Drive, Suite 220, St. Louis, MO 63132.
88148 | Matheson, Inc., 1700 Scepter Road, Waverly, TN 37185.
89110 | Isomeric Industries Incorporated, 1600 First Ave., Bldg. 1-A, Big Spring, TX 79720.
89118 | Vive Crop Protection Inc., 500 Westover Dr., #10198, Sanford, NC 27330.
91069 | Die Bugs, Die!, LLC, P.O. Box 9363, Daytona Beach, FL 32120.
91209 | Bluetech Laboratories, Inc., 8 The Green, Suite 14582, Dover, DE 19901.
91234 | Atticus, LLC, 940 NW Cary Parkway, Suite 200, Cary, NC 27513.
91374 | Lubricant Marketing and Research, Inc., 12238 Kindred St., Houston, TX 77049.
92068 | Miracle Titanium, LLC, 14241 Dallas Parkway, Dallas, TX 75254.
92120 | Hazel Technologies, Inc., 320 N Sangamon Street, Suite 400, Chicago, IL 60607.
92647 | Tigris, LLC, 10025 Hwy. 264 Alternate, Middlesex, NC 27557.
93051 | Rightline, LLC, 950 Falcon Drive, Malden, MO 63863.
93507 | Mayzo, Inc., 3935 Lakefield Court, Suwanee, GA 30024.
93569 | Genagri, LLC, 422 Jasmine Way, Roseburg, OR 97471.
93594 | Gti Chemical Solutions, Inc., P.O. Box 517, Drayton, SC 29333.
94418 | Shiloh Animal Health, Inc., P.O. Box 13301, Lexington, KY 40583.
94865 | Terrace Packaging Co., 2819 Southwest Blvd., Kansas City, MO 64108.
95393 | Lewis & Harrison, LLC, Agent For: Quatrus, LLC, 2461 South Clark Street, Suite 710, Arlington, VA 22202.
96041 | Industrial Product Formulators of America, Inc., 1790 Boyd St., Santa Ana, CA 92705.
98022 | IDW Textile, LLC, Agent For: IDW Textile, LLC, 147 Bergen Court, Ridgewood, NJ 07450.

Table 3 of this unit lists all the FIFRA section 3 and section 24(c) registrations that are canceled for non-payment of the 2023 maintenance fee. These registrations are canceled by this order effective October 16, 2024 and without hearing.

Table 3—FIFRA Section 3 and Section 24(c) Registrations Cancelled for Non-Payment of 2023 Maintenance Fee
Registration No. | Company No. | Product name | Active ingredient
577-558 | 577 | SHERWIN-WILLIAMS SEAGUARD VINYL ANTI-FOULANT | Cuprous oxide—(66.9%).
577-559 | 577 | SHERWIN-WILLIAMS SEAGUARD VINYL ANTI-FOULANT BLACK | Cuprous oxide—(55.7%).
577-561 | 577 | MIL-P-15931F FORMULA 121 ANTI-FOULANT RED | Cuprous oxide—(69.69%).
577-562 | 577 | MIL-P-15931F FORMULA-129 ANTIFOULANT BLACK | Cuprous oxide—(57%).
777-108 | 777 | GATTUSO GP | Citric acid—(3.5%).
777-129 | 777 | Phoenix Wipes | Alkyl* dimethyl benzyl ammonium chloride *(50%C14, 40%C12, 10%C16)—(.355%).
1022-594 | 1022 | CUSOL-1 | Copper ethanolamine complex—(2.92%).
2382-104 | 2382 | PREVENTIC TICK COLLAR FOR DOGS | Amitraz—(9%).
2749-591 | 2749 | ACETO ETOXAZOLE 72% WSB MITICIDE | Etoxazole—(72%).
2749-595 | 2749 | ACETO ETOXAZOLE 72% WP IN WSP MITICIDE | Etoxazole—(72%).
2749-603 | 2749 | AG36076 2.88 SC MITICIDE | Etoxazole—(31.7%).
2749-619 | 2749 | AG35814 B 30 SG Insecticide | Acetamiprid—(30%).
2749-620 | 2749 | AG35814 B 70 WP Insecticide | Acetamiprid—(70%).
2749-621 | 2749 | AG35814 C 70 WP Insecticide | Acetamiprid—(70%).
2749-622 | 2749 | AG35814 C 30 SG INSECTICIDE | Acetamiprid—(30%).
2935-506 | 2935 | WILBUR-ELLIS BEN-SUL 85 | Sulfur—(85%).
2935-555 | 2935 | DEADLOCK G | Zeta-Cypermethrin—(.25%).
4313-22 | 4313 | 776 DISINFECTANT VIRUCIDE & CLEANER | Alkyl* dimethyl benzyl ammonium chloride *(50%C14, 40%C12, 10%C16)—(3.3%).
4875-18 | 4875 | INDCO PF-13 SANITIZER | Sodium dichloroisocyanurate dihydrate—(25%).
4972-23 | 4972 | PROTEXALL ANT-KIL | Boric acid—(6%).
7048-4 | 7048 | BIO-MAGIC RINSE | Alkyl* dimethyl benzyl ammonium chloride *(60%C14, 30%C16, 5%C18, 5%C12)—(6%), Alkyl* dimethyl ethylbenzyl ammonium chloride *(50%C12, 30%C14, 17%C16, 3%C18)—(6%).
7319-6 | 7319 | LURECTRON SCATTERBAIT | Methomyl—(1%), cis-9-Tricosene—(.26%).
7754-41 | 7754 | BUG BARRIER II | Diethyl toluamide—(25%), MGK 264—(5%), MGK 326—(2.5%).
7946-31 | 7946 | ARBORFOS HP | Dipotassium phosphite (K2HPO3)—(45.8%).
9009-14 | 9009 | SO-WHITE 6.40% HYPOCHLORITE DAIRY, FARM & HOME USE | Sodium hypochlorite—(6.4%).
9215-12 | 9215 | All Clear 3 Tablets Jumbo Chlorinating Tablets7 | Trichloro-s-triazinetrione—(99%).
9428-7 | 9428 | SP ULTRA 8 DISINFECTANT CLEANER | Sodium hypochlorite—(8.25%).
9712-8 | 9712 | ALGICLEAR | Simazine—(.9%).
10707-62 | 10707 | BIOSORB 1250 | Glutaraldehyde—(23%).
10707-63 | 10707 | XC408 BIOCIDE | Alkyl* dimethyl benzyl ammonium chloride *(67%C12, 25%C14, 7%C16, 1%C18)—(30%).
11773-17 | 11773 | CORNBELT TRIFLURALIN | Trifluralin—(43%).
48302-11 | 48302 | SEA GRAND PRIX 500 | Cuprous oxide—(45.56%), Zinc pyrithione—(2.91%).
49547-16 | 49547 | CLNSL | Sodium hypochlorite—(7.5%).
51032-14 | 51032 | MICRO-SUL DUSTING/WETTABLE SULFUR | Sulfur—(90%).
52287-1 | 52287 | TURF FERTILIZER WITH RONSTAR(R) 0.95 | Oxadiazon—(.95%).
52484-4 | 52484 | BIOCLEAR 2250 ANTIMICROBIAL | Glutaraldehyde—(25%).
52484-6 | 52484 | BIOCLEAR 2256 ANTIMICROBIAL | 1-Decanaminium, N-decyl-N,N-dimethyl-, chloride—(3%), Alkyl* dimethyl benzyl ammonium chloride *(50%C14, 40%C12, 10%C16)—(3%), Glutaraldehyde—(25%).
53853-7 | 53853 | FGI-S Ready-To-Use Insecticide | Esfenvalerate—(.025%).
53853-8 | 53853 | FGI PY/PBO OUTDOOR RTU INSECTICIDE | Piperonyl butoxide—(1%), Pyrethrins—(.1%).
57242-2 | 57242 | METHOMYL 5G GRANULES | Methomyl—(5%).
57787-30 | 57787 | PROTEAM 1 HIGH TECH TABS | Boron sodium oxide (B4Na2O7), pentahydrate—(5%), Trichloro-s-triazinetrione—(91.5%).
57787-36 | 57787 | Proteam Power Magic AC+ Superoxidizer | Calcium hypochlorite—(47.6%).
58401-13 | 58401 | STELLAR THREE-INCH TABLETS | Trichloro-s-triazinetrione—(99.4%).
59682-4 | 59682 | BIOFLEX | Carbamic acid, butyl-, 3-iodo-2-propynyl ester—(.157%).
59905-6 | 59905 | SHELL-GUARD | Boron sodium oxide (B8Na2O13), tetrahydrate—(25.31%).
59905-9 | 59905 | ARMOR-GUARD | Boron sodium oxide (B8Na2O13), tetrahydrate—(98%).
59905-12 | 59905 | SHELLGUARD READY-TO-USE (RTU) WOOD PRESERVATIVE/INSECT CONTROL | Boron sodium oxide (B8Na2O13), tetrahydrate—(10%).
61671-3 | 61671 | FOR-MITE | Formic acid—(65.9%).
61966-4 | 61966 | INSECT CONTROL CONCENTRATE | Capsaicin—(.42%), Oil of mustard—(3.7%).
62401-4 | 62401 | NORDICO FOOD CONTACT SURFACE SANITIZING TOWEL PLUS | Alkyl* dimethyl benzyl ammonium chloride *(60%C14, 30%C16, 5%C18, 5%C12)—(1.87%), Alkyl* dimethyl ethylbenzyl ammonium chloride *(68%C12, 32%C14)—(1.87%).
62401-5 | 62401 | NORDICO CLEANING AND DISINFECTANT FORMULA | Alkyl* dimethyl benzyl ammonium chloride *(60%C14, 30%C16, 5%C18, 5%C12)—(.475%), Alkyl* dimethyl ethylbenzyl ammonium chloride *(68%C12, 32%C14)—(.475%).
62401-7 | 62401 | NORDICO FOOD CONTACT SURFACE SANITIZING SLEEVELETS | Alkyl* dimethyl benzyl ammonium chloride *(60%C14, 30%C16, 5%C18, 5%C12)—(1.87%), Alkyl* dimethyl ethylbenzyl ammonium chloride *(68%C12, 32%C14)—(1.87%).
63269-1 | 63269 | TMB 471C | Copper sulfate pentahydrate—(25%).
63982-1 | 63982 | SKL390 Disinfectant Cleaner | Alkyl* dimethyl benzyl ammonium chloride *(60%C14, 30%C16, 5%C18, 5%C12)—(.167%), Alkyl* dimethyl ethylbenzyl ammonium chloride *(68%C12, 32%C14)—(.167%).
67071-108 | 67071 | ACTICIDE BWL 10-F | 1,2-Benzisothiazolin-3-one—(9%).
67867-5 | 67867 | BUGGSPRAY INSECT REPELLENT FOR BITING FLIES | Diethyl toluamide—(25%), MGK 264—(5%), MGK 326—(2.5%).
68539-16 | 68539 | AGRICURE | Potassium bicarbonate—(85%).
68539-19 | 68539 | BOTRY-Zen WP | Ulocladium oudemansii (U3 Strain)—(45%).
68889-1 | 68889 | HAWAII FLY BAIT BRAND OLIVE FRUIT FLY | Spinosad—(.3%).
69340-5 | 69340 | EOGAS AN1005 | Ethylene oxide—(90%).
69340-9 | 69340 | AN7514 | Ethylene oxide—(97%).
69526-10 | 69526 | PC TURF AND ORNAMENTALS | Mineral oil—includes paraffin oil from 063503—(98%).
69526-11 | 69526 | PC HERBICIDE CONCENTRATE | 2,4-D, dimethylamine salt—(.34%), Dicamba, dimethylamine salt—(.042%), MCPP-P, DMA salt—(.22%).
69526-12 | 69526 | PC RTU HERBICIDE | 2,4-D, dimethylamine salt—(.034%), Dicamba, dimethylamine salt—(.0042%), MCPP-P, DMA salt—(.022%).
69526-16 | 69526 | PC HERBICIDE RTU PLUS | 2,4-D, dimethylamine salt—(.057%), Dicamba, dimethylamine salt—(.007%), MCPP-P, DMA salt—(.037%).
69681-28 | 69681 | CLOR MOR CAL-SHOCK SWB | Calcium hypochlorite—(47.6%).
70062-4 | 70062 | BABOLNA BIO HYDROPRENE TECHNICAL | 2,4-Dodecadienoic acid, 3,7,11-trimethyl-, ethyl ester, (S-(E,E))—95%).
70299-10 | 70299 | GREENCLEAN TABLETS | Sodium percarbonate—(42.5%).
70299-24 | 70299 | AXXE READY TO USE HERBICIDE | Pelargonic acid, ammonium salt—(5%).
70299-30 | 70299 | NoMAS | Capric acid—(5%), Caprylic acid—(5%), Nonanoic acid—(5%).
70644-4 | 70644 | NUTROL LC | Potassium phosphate, monobasic—(35%).
70909-5 | 70909 | CONCEAL CANDLE | Linalool—(3.5%).
71280-6 | 71280 | MIGRATOL BP-1 | Permethrin—(1%).
71280-7 | 71280 | MIGRATOL BPX-002 | Permethrin—(10%).
72468-7 | 72468 | FLO-X/MOLDWASH/WOOD PRESERVATIVE/MOLD CONTROL | Boron sodium oxide (B8Na2O13), tetrahydrate—(10%).
72468-8 | 72468 | FLO-X/MOLDWASH PRE-MOISTENED WIPES | Boron sodium oxide (B8Na2O13), tetrahydrate—(9.8%).
74473-1 | 74473 | MCV IODINATED RESIN | Iodine—(46%).
74473-2 | 74473 | MCV LOW RESIDUAL IODINATED RESIN | Iodine—(40%).
74517-1 | 74517 | ZYDOX AD-05 | Sodium chlorite—(7.5%).
80286-9 | 80286 | ISCA LAURYL ALCOHOL MP | Lauryl alcohol—(98.2%).
80286-10 | 80286 | ISCA MYRISTYL ALCOHOL MP | Myristyl alcohol—(100%).
80286-14 | 80286 | ISCA CLM MP | (Z,Z,E)-7,11,13-Hexadecatrienal—(66.5%).
80286-16 | 80286 | SPLAT TUTA | (E,Z,Z)-3,8,11-Tetradecatrien-1-ol acetate—(.3%).
80286-17 | 80286 | ISCA TUTA MP | (E,Z,Z)-3,8,11-Tetradecatrien-1-ol acetate—(96.31%).
80286-24 | 80286 | ISCA Lobesia MP | (E,Z)-7,9-Dodecadien-1-ol acetate—(77.64%).
80286-25 | 80286 | SPLAT Lobesia | (E,Z)-7,9-Dodecadien-1-ol acetate—(3.6%).
80286-26 | 80286 | Hook RPW | Cypermethrin—(3%).
80286-27 | 80286 | ISCA FAW MP | (Z)-11-Hexadecenyl acetate—(11.44%), Z)-7-Dodecenyl acetate—(2.859%), Z-9-Tetradecen-1-yl acetate—(81%).
80286-29 | 80286 | SPLAT FAW GL4 | (Z)-11-Hexadecenyl acetate—(.48%), Z-9-Tetradecen-1-yl acetate—(3.4%).
80286-32 | 80286 | MCH BUBBLE CAP | 3-Methyl-2-cyclohexen-1-one—(97.9%).
82552-2 | 82552 | CONCROBIUM MOLD CONTROL (MUP) | Sodium carbonate—(.95%).
82669-2 | 82669 | BIO-UD-8 SPRAY | Methyl nonyl ketone—(7.75%).
82940-2 | 82940 | Elicitore | Humates (as derived from Leonardite)—(12%).
82940-3 | 82940 | PM-4300ORGANIC ACIDS | Humates (as derived from Leonardite)—(18.5%).
84368-1 | 84368 | URTHPRO CLEANER, DISINFECTANT, AND FUNGICIDE | Ethanol—(29.4%).
84630-2 | 84630 | SILVERCLEAR TM DG300 | Alkyl* dimethyl benzyl ammonium chloride *(50%C12, 30%C14, 17%C16, 3%C18)—(.91%), Silver nitrate—(.53%).
84930-23 | 84930 | ARC-METOLAZINE HERBICIDE | Atrazine—(33.1%), Metolachlor—(26.1%).
85199-4 | 85199 | BURROWS E WRAP | Ethoxyquin—(.1%).
85199-11 | 85199 | BURROWS CE WRAP | Copper carbonate, basic—(1.3%), Ethoxyquin—(.1%).
85249-1 | 85249 | HEIQ AGS-20 | Silver nanoparticles—(19.3%).
85249-2 | 85249 | HEIQ AGS-20 U | Silver nanoparticles—(19.3%).
85341-3 | 85341 | Revere Antimicrobial Copper | Copper as elemental—(96.2%).
85493-1 | 85493 | BROWSEBAN EC-ANIMAL REPELLENT | Capsaicin—(2%).
85678-28 | 85678 | CAPTAN TECHNICAL II | Captan—(95.5%).
86182-4 | 86182 | STK-53 | Oils, tea-tree—(10%.).
86330-2 | 86330 | SUNSPRAY 7N | Aliphatic petroleum solvent—(100%).
86330-3 | 86330 | SUNSPRAY 7E | Aliphatic petroleum solvent—(98.8%).
86330-4 | 86330 | SUNSPRAY 11E | Aliphatic petroleum solvent—(98.8%).
86330-6 | 86330 | SUNSPRAY 6E | Aliphatic petroleum solvent—(98.8%).
86330-8 | 86330 | SUNSPRAY 9E | Aliphatic petroleum solvent—(98.8%).
86330-9 | 86330 | SUNSPRAY 9N | Aliphatic petroleum solvent—(100%).
86330-13 | 86330 | SUNSPRAY ULTRA-FINE YEAR-ROUND PESTICIDAL OIL | Aliphatic petroleum solvent—(98.8%).
86330-15 | 86330 | SUNSPRAY 6E WESTERN | Aliphatic petroleum solvent—(98.8%).
86374-3 | 86374 | ECOPEL ALL-FAMILY INSECT REPELLENT TOWELETTE | Picaridin—(20%).
86865-1 | 86865 | RESULTIX TM | Isopropyl myristate—(50%).
87193-1 | 87193 | Formula 691 | Cytokinin (as kinetin)—(.3%), Gibberellic acid—(.25%), Indole-3-butyric acid—(.15%).
87469-1 | 87469 | MOLD PROOFER PAINT | Carbamic acid, butyl-, 3-iodo-2-propynyl ester—(.0063%).
87583-1 | 87583 | BIO-PROTECT 7200 | 1-Octadecanaminium, N,N-dimethyl-N-(3-(trimethoxysilyl)propyl)-, chloride—(71.2%).
87583-2 | 87583 | BIO-PROTECT AM500 | 1-Octadecanaminium, N,N-dimethyl-N-(3-(trimethoxysilyl)propyl)-, chloride—(5%).
87583-3 | 87583 | BIO-PROTECT AM50 | 1-Octadecanaminium, N,N-dimethyl-N-[3-(trihydroxysilyl)propyl],chloride—(.5%).
87583-5 | 87583 | BIO-PROTECT DP | 1-Decanaminium, N,N-dimethyl-N-octyl-, chloride—(4.8%), 1-Decanaminium, N-decyl-N,N-dimethyl-, chloride—(2.88%), 1-Octadecanaminium,N,N-dimethyl-N-[3-(trihydroxysilyl)propyl],chloride—(35.6%), 1-Octanaminium, N,N-dimethyl-N-octyl-, chloride—(1.92%), Alkyl* dimethyl benzyl ammonium chloride *(50%C14, 40%C12, 10%C16)—(6.4%).
87656-4 | 87656 | Bio-Spear Sanitizing Spray | 1-Decanaminium, N-decyl-N,N-dimethyl-, chloride—(.9%), 1-Octadecanaminium, N,N-dimethyl-N-(3-(trimethoxysilyl)propyl)-, chloride—(.54%).
87663-3 | 87663 | Emerion 7020 Concentrate | Pelargonic acid, ammonium salt—(40%).
87663-10 | 87663 | EMERION 8200 C8910 FA DUSTING POWDER | Capric acid—(2%), Caprylic acid—(10%), Nonanoic acid—(3%).
87845-10 | 87845 | Colossal Pro Fungicide | Propiconazole—(29.73%), Tebuconazole—(19.62%).
88089-1 | 88089 | SANOGIENE | 2,4-Imidazolidinedione, 1,3-bis(hydroxymethyl)-5,5-dimethyl—(22.58%), 2,4-Imidazolidinedione, 1-(hydroxymethyl)-5,5-dimethyl—(21.42%), Chitosan—(.4%).
88144-1 | 88144 | Aircraft Insecticide 2% Permethrin | Permethrin—(2%).
88148-2 | 88148 | ETHYLENE | Ethylene—(98.5%).
89118-3 | 89118 | VCP-06 1.65 SC Fungicide | Azoxystrobin—(18.4%).
89118-4 | 89118 | VCP-07 | Azoxystrobin—(10.9%), Bifenthrin—(5.8%).
89265-1 | 89265 | Noxilizer NO2 Sterilant | Nitrogen dioxide—(99.5%).
89883-2 | 89883 | OXY BLAST 50 HYDROGEN PEROXIDE SOLUTION | Hydrogen peroxide—(50%).
90326-1 | 90326 | WIPE OUT | Abamectin—(.0012%).
91040-2 | 91040 | WATERWORKS SULFOSULF 75% WDG HERBICIDE | Sulfosulfuron—(75%).
91069-2 | 91069 | ROACH E. REAPER | Boric acid—(100%).
91116-1 | 91116 | PreventX 24/7 Antimicrobial Surface Protectant | 1-Octadecanaminium, N,N-dimethyl-N-(3-(trimethoxysilyl)propyl)-, chloride—(.84%).
91209-3 | 91209 | TERRA SAN | Ethaneperoxoic acid—(5.4%), Hydrogen peroxide—(27%).
91374-2 | 91374 | HORTICOL 75 | Aliphatic petroleum solvent—(100%).
91620-3 | 91620 | Multiply | Cytokinin (as kinetin)—(.016%), Indole-3-butyric acid—(.094%).
91733-1 | 91733 | LOFT Insect Repellent Fabric Treatment | Permethrin—(.52%).
91799-1 | 91799 | INFINITY MICROBE SHIELD | 1-Octadecanaminium, N,N-dimethyl-N-[3-(trihydroxysilyl)propyl],chloride—(3.6%).
92068-3 | 92068 | MVX ANTIMICROBIAL COAT | Silver—(.1%).
92120-9 | 92120 | Hazel 310.1 | 1-Methylcyclopropene—(.1%).
92198-1 | 92198 | Fantex EHR-US | 1-Decanaminium, N-decyl-N,N-dimethyl-, chloride—(20%), Alkyl* dimethyl benzyl ammonium chloride *(65%C12, 25%C14, 10%C16)—(18%).
92647-25 | 92647 | Tigris Clop + Flumet | Clopyralid, potassium salt—(60%), Flumetsulam—(18.5%).
93051-7 | 93051 | RIGHTLINE SULFOSULF 75 WDG HERBICIDE | Sulfosulfuron—(75%).
93051-9 | 93051 | Rightline Sulfosulf T&O | Sulfosulfuron—(75%).
93354-1 | 93354 | BIOPROTECT P CONCENTRATE | 1-Octadecanaminium, N,N-dimethyl-N-(3-(trimethoxysilyl)propyl)-, chloride—(5%).
93507-1 | 93507 | BIO-TAPE 48 | Diiodomethyl p-tolyl sulfone—(95%).
93569-14 | 93569 | GenAgri Paraquat MUP | Paraquat dichloride—(45.5%).
93594-1 | 93594 | GTI SHIELD ZP50 | Zinc pyrithione—(50%).
93744-1 | 93744 | PATHCO Disinfectant | Ethaneperoxoic acid—(6.61%), Hydrogen peroxide—(29.72%).
93908-3 | 93908 | Envirolyte Plus | Hypochlorous Acid—(.046%).
94418-1 | 94418 | Xitrexx | 1-Octadecanaminium, N,N-dimethyl-N-[3-(trihydroxysilyl)propyl],chloride—(1%).
94865-2 | 94865 | PARACETIC ACID SANITIZER | Ethaneperoxoic acid—(5.3%), Hydrogen peroxide—(23%).
95393-1 | 95393 | QUATRUS Q-428 | Alkyl* dimethyl benzyl ammonium chloride *(50%C14, 40%C12, 10%C16)—(80%).
95393-2 | 95393 | QUATRUS Q-448 | 1-Decanaminium, N-decyl-N,N-dimethyl-, chloride—(80%).
95393-3 | 95393 | QUATRUS Q-15 | 1-Decanaminium, N,N-dimethyl-N-octyl-, chloride—(15%), 1-Decanaminium, N-decyl-N,N-dimethyl-, chloride—(7.5%), 1-Octanaminium, N,N-dimethyl-N-octyl-, chloride—(7.5%), Alkyl* dimethyl 3,4-dichlorobenzyl ammonium chloride *(50%C14, 40%C12, 10%C16)—(20%).
95393-4 | 95393 | QUATRUS Q-050 | 1-Decanaminium, N,N-dimethyl-N-octyl-, chloride—(25%), 1-Decanaminium, N-decyl-N,N-dimethyl-, chloride—(12.5%), 1-Octanaminium, N,N-dimethyl-N-octyl-, chloride—(12.5%).
95393-5 | 95393 | QUATRUS Q-125 | Alkyl (67% C12, 25% C14, 7% C16, 1% C18) dimethyl benzyl ammonium chlorides—(50%).
95393-6 | 95393 | QUATRUS Q-405 | 1-Decanaminium, N-decyl-N,N-dimethyl-, chloride—(30%), Alkyl* dimethyl benzyl ammonium chloride *(50%C14, 40%C12, 10%C16)—(20%).
95393-7 | 95393 | QUATRUS Q-24 | 1-Decanaminium, N,N-dimethyl-N-octyl-, chloride—(24%), 1-Decanaminium, N-decyl-N,N-dimethyl-, chloride—(12%), 1-Octanaminium, N,N-dimethyl-N-octyl-, chloride—(12%), Alkyl* dimethyl benzyl ammonium chloride *(50%C14, 40%C12, 10%C16)—(32%).
95393-8 | 95393 | QUATRUS Q-080 | 1-Decanaminium, N,N-dimethyl-N-octyl-, chloride—(40%), 1-Decanaminium, N-decyl-N,N-dimethyl-, chloride—(20%), 1-Octanaminium, N,N-dimethyl-N-octyl-, chloride—(20%).
95393-9 | 95393 | QUATRUS Q-408 | 1-Decanaminium, N-decyl-N,N-dimethyl-, chloride—(48%), Alkyl* dimethyl benzyl ammonium chloride *(50%C14, 40%C12, 10%C16)—(32%).
95393-10 | 95393 | QUATRUS Q-425 | Alkyl* dimethyl benzyl ammonium chloride *(50%C14, 40%C12, 10%C16)—(50%).
95393-11 | 95393 | QUATRUS Q-445 | 1-Decanaminium, N-decyl-N,N-dimethyl-, chloride—(50%).
95393-12 | 95393 | QUATRUS Q-465 | Alkyl* dimethyl benzyl ammonium chloride *(60%C14, 30%C16, 5%C18, 5%C12)—(50%).
95393-13 | 95393 | QUATRUS Q-468 | Alkyl* dimethyl benzyl ammonium chloride *(60%C14, 30%C16, 5%C18, 5%C12)—(80%).
95393-15 | 95393 | QUATRUS Q-2125M-80 | Alkyl* dimethyl benzyl ammonium chloride *(60%C12, 30%C14, 5%C16, 5%C18)—(40%), Alkyl* dimethyl ethylbenzyl ammonium chloride *(68%C12, 32%C14)—(40%).
95393-16 | 95393 | QUATRUS Q-2125M-50 | Alkyl* dimethyl benzyl ammonium chloride *(60%C12, 30%C14, 5%C16, 5%C18)—(25%), Alkyl* dimethyl ethylbenzyl ammonium chloride *(68%C12, 32%C14)—(25%).
95393-17 | 95393 | QUATRUS Q-2125M-50NA | Alkyl* dimethyl benzyl ammonium chloride *(60%C14, 30%C16, 5%C18, 5%C12)—(25%), Alkyl* dimethyl ethylbenzyl ammonium chloride *(68%C12, 32%C14)—(25%).
95588-1 | 95588 | CAL HYPO MAX 68% | Calcium hypochlorite—(68%).
95984-1 | 95984 | The KleanTek Sanis 275 | Hypochlorous Acid—(.0275%).
96041-3 | 96041 | SANI-SPRAY | Alkyl* dimethyl benzyl ammonium chloride *(60%C14, 30%C16, 5%C18, 5%C12)—(.154%), Alkyl* dimethyl ethylbenzyl ammonium chloride *(68%C12, 32%C14)—(.154%), Isopropyl alcohol—(21%).
97755-1 | 97755 | Swipe Clean 7030 IPA | Isopropyl alcohol—(62.7%).
97956-1 | 97956 | WSK Disinfecting Wipes | Alkyl* dimethyl benzyl ammonium chloride *(50%C14, 40%C12, 10%C16)—(.388%).
98022-1 | 98022 | FRESH | Chitosan—(6%).
98191-1 | 98191 | SurfaceAide 1000 | 1-Octadecanaminium, N,N-dimethyl-N-(3-(trimethoxysilyl)propyl)-, chloride—(1.44%).
98223-1 | 98223 | Pro Oxide | Chlorine dioxide—(2%).
98884-3 | 98884 | 1st Galaxy Disinfectant Wet Wipes
100079-1 | 100079 | Nemo ON MUP | Neem oil—(100%).
100079-2 | 100079 | Nemo | Neem oil—(70%).
100312-1 | 100312 | ASN Guard 3690 Antimicrobial Concentrate | 1-Octadecanaminium, N,N-dimethyl-N-(3-(trimethoxysilyl)propyl)-, chloride—(5%).
100312-2 | 100312 | ASN GUARD 3690 ANTIBACTERIAL RTU | 1-Octadecanaminium, N,N-dimethyl-N-(3-(trimethoxysilyl)propyl)-, chloride—(.5%).
100629-2 | 100629 | STIZE | 1-Decanaminium, N-decyl-N,N-dimethyl-, chloride—(1.5%).
100984-1 | 100984 | Stern Distributor's 3 Jumbo Tabs | Trichloro-s-triazinetrione—(99%).
AL120006 | 69969 | AVIPEL (DRY) CORN SEED TREATMENT | Anthraquinone—(50%).
AZ110003 | 56 | BAIT BLOCK RODENTIICDE WITH PEANUT BUTTER FLAVORIZER | Diphacinone—(.005%).
CA100001 | 69526 | PETRO-CANADA PURESPRAY GREEN | Mineral oil—includes paraffin oil from 063503.
CA110008 | 88588 | Chateau WDG Herbicide | Flumioxazin—(51%).
CA140006 | 71512 | BELEAF 50SG INSECTICIDE | Flonicamid—(50%).
DE120001 | 69969 | AVIPEL (DRY) CORN SEED TREATMENT | Anthraquinone—(50%).
IA170004 | 69969 | AVIPEL (DRY) CORN SEED TREATMENT | Anthraquinone—(50%).
ID130007 | 69969 | AVIPEL (DRY) CORN SEED TREATMENT | Anthraquinone—(50%).
LA120007 | 69969 | AVIPEL (DRY) CORN SEED TREATMENT | Anthraquinone—(50%).
MD120001 | 69969 | AVIPEL (DRY) CORN SEED TREATMENT | Anthraquinone—(50%).
ME120002 | 69969 | AVIPEL (DRY) CORN SEED TREATMENT | Anthraquinone—(50%).
MO160004 | 69969 | AVIPEL (DRY) CORN SEED TREATMENT | Anthraquinone—(50%).
MS120010 | 69969 | AVIPEL (DRY) CORN SEED TREATMENT | Anthraquinone—(50%).
NC120008 | 1015 | DOW AGROSCIENCES/PROFUME GAS FUMIGANT | Sulfuryl fluoride—(99.8%).
NC130001 | 69969 | AVIPEL (DRY) CORN SEED TREATMENT | Anthraquinone—(50%).
ND130001 | 69969 | AVIPEL (DRY) CORN SEED TREATMENT | Anthraquinone—(50%).
NH120001 | 69969 | AVIPEL (DRY) CORN SEED TREATMENT | Anthraquinone—(50%).
NJ130001 | 69969 | AVIPEL (DRY) CORN SEED TREATMENT | Anthraquinone—(50%).
NY170006 | 69969 | AVIPEL HOPPER BOX (DRY) CORN SEED TREATMENT | Anthraquinone.
OH170001 | 69969 | AVIPEL HOPPER BOX (DRY) CORN SEED TREATMENT | Anthraquinone.
TX090004 | 86311 | BOLLGARD II COTTON | Bacillus thuringiensis Cry2Ab protein and the genetic material necessary for its production (vector GHBK11) in cotton.
TX110003 | 86311 | BOLLGARD II COTTON | Bacillus thuringiensis Cry2Ab2 protein and the genetic material necessary for its production [PV-GHBK11] in event MON 15985 cotton—(.< 0.009%), Bacillus thuringiensis CrylAc protein and the genetic material necessary for its production [PV-GHBK04] in event MON 15985 cotton -(.< 0.00052%).
TX130002 | 69969 | AVIPEL (DRY) CORN SEED TREATMENT | Anthraquinone—(50%).
UT180005 | 69969 | AVIPEL (DRY) CORN SEED TREATMENT | Anthraquinone—(50%).
VT120002 | 69969 | AVIPEL (DRY) CORN SEED TREATMENT | Anthraquinone—(50%).
WI190003 | 69969 | AVIPEL | Anthraquinone—(50%).

Table 4 of this unit lists the names and addresses of record for all registrants of the products in Table 3 of this unit, in sequence by EPA company number. This company number corresponds to the first part of the EPA registration numbers of the products listed in this unit.

Table 4—Registrants for Which Registrations Are Being Cancelled for Non-Payment of 2023 Maintenance Fees
Company No. | Company name
56 | J.T. EATON & CO., INC., 1393 E. HIGHLAND ROAD, TWINSBURG, OH, 44087.
577 | THE SHERWIN-WILLIAMS COMPANY, 101 PROSPECT AVE, CLEVELAND, OH, 44115.
777 | RECKITT BENCKISER LLC., 399 INTERPACE PARKWAY, PARSIPPANY, NJ, 07054.
1015 | DOUGLAS PRODUCTS AND PACKAGING COMPANY LLC, 1550 EAST OLD 210 HIGHWAY, LIBERTY, MO, 64068.
1022 | IBC MANUFACTURING CO, 416 EAST BROOKS ROAD, MEMPHIS, TN, 38109.
2382 | VIRBAC AH, INC., P.O. BOX 162059, FORT WORTH, TX, 76161.
2749 | ACETO LIFE SCIENCES, L.L.C., D/B/A ACTYLIS, 4 TRI HARBOR COURT, PORT WASHINGTON, NY, 11050.
2935 | WILBUR-ELLIS COMPANY LLC, 2903 S. CEDAR AVE., FRESNO, CA, 93725.
4313 | CARROLLCLEAN, 2900 W KINGSLEY RD, GARLAND, TX, 75041.
4875 | INDCO INC., P.O. BOX 109, GLOUCESTER CITY, NJ, 08030.
4972 | PROTEXALL PRODUCTS INC, 73356 HIGHWAY 41, PEARL RIVER, LA, 70452.
7048 | EDMAR CHEMICAL CO, P.O. BOX 598, CHAGRIN FALLS, OH, 44022.
7319 | DENKA REGISTRATIONS BV, P.O. BOX 337, BARNEVELD, ,3770.
7754 | ARI, P.O. BOX 510, ORCHARD HILL, GA, 30266.
7946 | J. J. MAUGET CO., 5435 PECK ROAD, ARCADIA, CA, 91006.
9009 | ONLINE PACKAGING INC, 4311 LIBERTY LANE, PLOVER, WI, 54467.
9215 | AQUA TRI, 17872 MITCHELL N., IRVINE, CA, 92614.
9428 | SUN-PINE CORPORATION, P.O. BOX 287, BRANDON, MS, 39043.
9712 | UNITED SUPPLIES FOR AQUARIUMS AND PETS, 2138 WEST 17TH ST, LONG BEACH, CA, 90813.
10707 | BAKER PETROLITE, LLC, 12645 WEST AIRPORT BLVD., SUGAR LAND, TX, 77478.
11773 | VAN DIEST SUPPLY COMPANY, P.O. BOX 610, WEBSTER CITY, IA, 50595.
48302 | CHUGOKU MARINE PAINTS (U.S.A.), INC., 1610 ENGINEERS ROAD, BELLE CHASSE, LA, 70037.
49547 | ALEN DEL NORTE, S.A. DE C.V., BLVD. DIAZ ORDAZ NO 1000, SANTA CATARINA N.L. 66350, MEXICO.
51032 | HONDO, INC., P.O. BOX 9931, BAKERSFIELD, CA, 93389.
52287 | HARRELL'S, LLC, P.O. BOX 807, LAKELAND, FL, 33802.
52484 | THE LUBRIZOL CORPORATION, 29400 LAKELAND BLVD., WICKLIFFE, OH, 44092.
53853 | THE FOUNTAINHEAD GROUP, INC., 23 GARDEN STREET, NEW YORK MILLS, NY, 13417.
57242 | GLADES FORMULATING CORPORATION, P.O. BOX 1690, BELLE GLADE, FL, 33430.
57787 | HAVILAND CONSUMER PRODUCTS, INC., 421 ANN STREET, NW, GRAND RAPIDS, MI, 49504.
58401 | STELLAR MANUFACTURING CO, 1647 SAUGET BUSINESS BLVD., SAUGET, IL, 62206.
59682 | CONTROLLED RELEASE TECHNOLOGIES INC, 1016 INDUSTRY DRIVE, SHELBY, NC, 28152.
59905 | PERMA-CHINK SYSTEMS INC, 17635 N.E. 67TH CT., REDMOND, WA, 98052.
61671 | MANN LAKE LTD., 501 1ST STREET SOUTH, HACKENSACK, MN, 56452.
61966 | CHAMPON MILLENIUM CHEMICALS, INC., 14 S.E. 4TH STREET, SUITE 36, BOCA RATON, FL, 33432.
62401 | PACON MANUFACTURING CORPORATION, 400 PIERCE STREET, SOMERSET, NJ, 06851.
63269 | THORNTON, MUSSO & BELLEMIN, INC., P.O. BOX 181, ZACHARY, LA, 70791.
63982 | B&B BLENDING LLC., 10963 LEROY DRIVE, NORTHGLENN, CO, 80233.
67071 | THOR GMBH, LANDWEHRSTRASSE 1, D-67346 SPEYER, , ,.
67867 | BUGG PRODUCTS LLC, 14505-21ST AVE. N, SUITE 214, PLYMOUTH, MN, 55447.
68539 | BIOWORKS, INC., 100 RAWSON ROAD, SUITE 205, VICTOR, NY, 14564.
68889 | TEPHRITID CONTROL, INC., 87-3599 MAMALAHOA HWY., CAPTAIN COOK, HI, 96704.
69340 | ANDERSEN STERILIZERS, INC., HEALTH SCIENCE PARK, 3154 CAROLINE DRIVE, HAW RIVER, NC, 27258.
69526 | PETRO-CANADA LUBRICANTS INC., D/B/A INTELLIGRO, 385 SOUTHDOWN ROAD, MISSISSAUGA, ONTARIO L5J 2Y3.
69681 | ALLCHEM PERFORMANCE PRODUCTS, INC., 416 SOUTH MAIN STREET, CORSICANA, TX, 75110.
69969 | ARKION LIFE SCIENCES, LLC, 551 MEWS DRIVE SUITE J, NEW CASTLE, DE, 19720.
70062 | BABOLNA BIOENVIRONMENTAL CENTRE PRIVATE LIMITED COMPANY, 1107 BUDAPEST, SZALLAS U. 6.
70299 | BIOSAFE SYSTEMS, LLC, 22 MEADOW STREET, EAST HARTFORD, CT, 06108.
70644 | LIDOCHEM, LLC, 179 CALLE MAGDALENA, SUITE 100, ENCINITAS, CA, 92024.
70909 | BIOSENSORY, INC., 620 MAIN STREET, STE. 3A, EAST GREENWICH, RI, 02818.
71280 | PREMIUM ENVIRONMENTAL PRODUCTS, LLC, 90 ROXBURY ROAD, PLANTVILLE, CT, 06479.
71512 | ISK BIOSCIENCES CORPORATION, 7470 AUBURN ROAD, SUITE A, CONCORD, OH, 44077.
72468 | PRECHEM, INC., 9663 SANTA MONICA BLVD., #593, BEVERLY HILLS, CA, 90210.
74473 | WATER SECURITY CORPORATION, 1455 KLEPPE LANE, SPARKS, NV, 89431.
74517 | ZYCHEM TECHNOLOGIES, LTD., STEPHEN STREET, SLIGO, IRELAND,.
80286 | ISCA TECHNOLOGIES, INC., 1230 W. SPRING STREET, RIVERSIDE, CA, 92507.
82552 | RUST-OLEUM CORPORATION, 11. E. HAWTHORN PARKWAY, VERNON HILLS, IL, 60061.
82669 | HOMS LLC, 193 LORAX LANE, PITTSBORO, NC, 27312.
82940 | ACTAGRO, LLC, 4516 N. HOWARD AVENUE, KERMAN, CA, 93630.
84368 | URTHTECH, LLC, 915 E. MAPLE ROAD, BIRMINGHAM, MI, 48009.
84630 | TRANSTEX TECHNOLOGIES INC., 3405 BOULEVARD CASAVANT WEST, SUITE 8, SAINT-HYACINTHE, QUEBEC J2S OB8.
84930 | ARCANA, LLC, 2225 Q STREET, AURORA, NE, 68818.
85199 | PAC PAPER, LLC, 6416 NW WHITNEY ROAD, VANCOUVER, WA, 98665.
85249 | HEIQ MATERIALS AG, RUETISTRASSE 12, 8952 SCHLIEREN, ZURICH.
85341 | REVERE COPPER PRODUCTS, INC, ONE REVERE PARK, ROME, NY, 13440.
85493 | REPELLEX USA, INC., P.O. BOX 396, NILES, MI, 49120.
85678 | REDEAGLE INTERNATIONAL LLC, 5143 S. LAKELAND DRIVE, SUITE 4, LAKELAND, FL, 33813.
86182 | STOCKTON (ISRAEL) LTD., 17 HA MEFALSIM STR., PETACH TIKVA 4951447.
86311 | TEXAS BOLL WEEVIL ERADICATION FOUNDATION, P.O. BOX 5089, ABELINE, TX, 79608.
86330 | HF SINCLAIR REFINING & MARKETING LLC, 401 PLYMOUTH ROAD, SUITE 350, PLYMOUTH MEETING, PA, 19462.
86374 | ECOPEL CORPORATION LIMITED, VICTORIA HOUSE, 49 CLARENDON ROAD, WATFORD WD17 1HX.
86865 | PIEDMONT ANIMAL HEALTH INC., 204 MUIRS CHAPEL ROAD, SUITE 200, GREENSBORO, NC, 27410.
87193 | UNITED AGRICULTURAL SERVICES OF AMERICA, INC., 534 CR 529A, LAKE PANASOFFKEE, FL, 33538.
87469 | BETTERBILT, LLC, 3137 EAST 26TH STREET, VERNON, CA, 90058.
87583 | PURESHIELD, INC., 230 S. BROAD ST. SUITE 1201, PHILADELPHIA, PA, 19102.
87656 | FLEX AI, LLC, 5300 DERRY STREET, HARRISBURG, PA, 17111.
87663 | EMERY OLEOCHEMICALS, LLC, 4900 ESTE AVENUE, CINCINNATI, OH, 45232.
87845 | AGROMARKETING CO, INC, 314 ESTATE COURT, MIDLAND, ON L4R 5H2, -, M.
88089 | BIOMED PROTECT, LLC, 1100 CORPORATE SQUARE DRIVE, SUITE 220, ST LOUIS, MO, 63132.
88144 | ARMED FORCES PEST MANAGEMENT BOARD, 2461 LINDEN LANE, SILVER SPRINGS, MD, 20190.
88148 | MATHESON, INC, 1700 SCEPTER ROAD, WAVERLY, TN, 37185.
88588 | CALIFORNIA PEPPER COMMISSION, 531-D NORTH ALTA AVE., DINUBA, CA, 93618.
89118 | VIVE CROP PROTECTION, INC., 6275 NORTHAM DRIVE, SUITE 1, MISSISSAUGA, ONTARIO L4V 1Y8.
89265 | NOXILIZER, INC, 1334 ASHTON ROAD, SUITE E, HANOVER, MD, 21706.
89883 | ESSENTIAL WATER SOLUTIONS, INC, 327 HILLCREST DRIVE, STORY CITY, IA, 50248.
90326 | B & K DISTRIBUTORS LLC, 29214 LYON OAKS DRIVE, WIXOM, MI, 48393.
91040 | CLIFTON WATERWORKS LLC, 12644 CHAPEL ROAD, SUITE 108, CLIFTON, VA, 20124.
91069 | DIE BUGS, DIE! (LLC), P.O. BOX 9363, DAYTONA BEACH, FL, 32120.
91116 | JENNSCO, LLC, 1050 GLENBROOK WAY, SUITE 480, HENDERSONVILLE, TN, 37075.
91209 | BLUETECH LABORATORIES, INC., 8 THE GREEN, SUITE 14582, DOVER, DE, 19901.
91374 | LUBRICANT MARKETING AND RESEARCH, INC. D/B/A LUBRIMAR, 12238 KINDRED ST., HOUSTON, TX, 77049.
91620 | SUNTTON BIOCHEMICAL LTD., 220 BREW STREET, SUITE 301, PORT MOODY, BRITISH COLUMBIA V3H 0H6.
91733 | BROOKWOOD COMPANIES INCORPORATED, 485 MADISON AVENUE, SUITE 500, NEW YORK, NY, 10022.
91799 | MICROBE SHIELD WORLDWIDE LLC., 4811 LYONS TECHNOLOGY PARKWAY, SUITE 29, COCONUT CREEK, FL, 33073.
92068 | MIRACLE TITANIUM LLC, 14241 DALLAS PARKWAY, DALLAS, TX, 75254.
92120 | HAZEL TECHNOLOGIES, INC., 320 N. SANGAMON STREET- SUITE 400, CHICAGO, IL, 60607.
92198 | HYGENICA, ENTERPRISE DRIVE, FOUR ASHES, WOLVERHAMPTON WV10 7DF.
92647 | TIGRIS, LLC, 10025 HWY. 264 ALTERNATE, MIDDLESEX, NC, 27557.
93051 | RIGHTLINE, LLC, 950 FALCON DRIVE, MALDEN, MO, 63863.
93354 | VIACLEAN TECHNOLOGIES, 230 S. BROAD STREET, SUITE 1201, PHILADELPHIA, PA, 19102.
93507 | MAYZO, INC., 3935 LAKEFIELD COURT, SUWANEE, GA, 30024.
93569 | GENAGRI, LLC, 422 JASMINE WAY, ROSEBURG, OR 97471.
93594 | GTI CHEMICAL SOLUTIONS, INC., P.O. BOX P.O. BOX 517, DRAYTON, SC, 29333.
93744 | PATHCOLAB, LLC, 419 2ND STREET SOUTH, SUITE 1, STILLWATER, MN, 55082.
93908 | AQUA ENGINEERED SOLUTION INC., 222 MOOSE MEADOW ROAD, WILLINGTON, CT, 06279.
94418 | SHILOH ANIMAL HEALTH, INC., P.O. BOX 13301, LEXINGTON, KY, 40583.
94865 | TERRACE PACKAGING CO., 2819 SOUTHWEST BLVD, KANSAS CITY, MO, 64108.
95393 | QUATRUS, LLC, 2461 SOUTH CLARK STREET, SUITE 710, ARLINGTON, VA, 22202.
95588 | BRINTEL INC., 4600 E WASHINGTON STREET, SUITE 300, PHOENIX, AZ, 85034.
95984 | THE KLEANTEK, LLC, 14246 80TH AVE NE, KIRKLAND, WA, 98034.
96041 | INDUSTRIAL PRODUCT FORMULATORS OF AMERICA, INC., 1790 BOYD ST, SANTA ANA, CA, 92705.
97755 | COMMUNITY CHEMICAL, 11111 INKJET WAY, WILLIS, TX,.
97956 | ZHANGZHOU WANSIKE ELECTRONICS CO., LTD, 90TH, NORTH OF LONGWEN ROAD, LONGWEN DISTRICT, ZHANGZHOU, FUJIAN, 363000.
98022 | IDW TEXTILE LLC., 147 Bergen Court, Ridgewood, NJ, 07450.
98191 | CS Coatings, LLC, 1190 Rolling Hills Drive, Bloomfield Hills, MI, 48302.
98223 | Environmental Surface Solutions, 825 S Schodack Rd, Castleton, NY, 12033.
98884 | First Galaxy Enterprises, Inc., 2600 E Southlake Blvd#120-220, Southlake, TX, 76092.
100079 | Nemo, 555 W. Lambert Road Unit N, Brea, CA, 92821.
100312 | ASN Technologies Pte. Ltd, 60 Paya Lebar Road, #10-08 Paya Lebar Square, Singapore 40905.
100629 | FLORIDA BIOTECH, LLC, 100 S. ASHLEY DR., SUITE 600, TAMPA, FL, 33602.
100984 | Stern Distributors, 3400 W DESERT INN RD Ste 9, LAS VEGAS, NV, 89102.

IV. Summary of Public Comments Received and Agency Response to Comments

During the public comment period provided, EPA received no comments in response to the July 26, 2024, Federal Register notice announcing the Agency's receipt of the requests for voluntary cancellations of products listed in Table 1 of Unit III.

V. Cancellation Order

Pursuant to FIFRA section 6(f) (7 U.S.C. 136d(f)), EPA hereby approves the requested cancellations of the registrations identified in Tables 1 and 3 of Unit III. Accordingly, the Agency hereby orders that the product registrations identified in Tables 1 and 3 of Unit III. are canceled. The effective date of the cancellations that are the subject of this notice is October 16, 2024. Any distribution, sale, or use of existing stocks of the products identified in Table 1 of Unit III. in a manner inconsistent with any of the provisions for disposition of existing stocks set forth in Unit VII. will be a violation of FIFRA. No distribution, sale, or use of existing stocks of the products identified in Table 3 is permitted, as set forth in Unit VII, and any future distribution or sale of the products identified in Table 3 by registrants identified in Table 4 constitutes a violation of FIFRA.

VI. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of July 26, 2024. The comment period closed on August 25, 2024.

Section 4(i)(1)(M) provides that EPA may, by order and without hearing, cancel any registration for which the required annual maintenance fee payment is not received by the statutory deadline. For all products listed in Table 3, maintenance fee payments were due by January 17, 2023, but have not been remitted to the Agency.

VII. Provisions for Disposition of Existing Stocks

Existing stocks are those stocks of registered pesticide products which are currently in the United States, and which were packaged, labeled, and released for shipment prior to the effective date of the cancellation action. The existing stocks provisions for the products subject to this order are as follows.

Registrants listed in Table 2 of Unit III may continue to sell and distribute existing stocks of products listed in Table 1 of Unit III until the date of publication of this Federal Register notice. Thereafter, the registrants are prohibited from selling or distributing products listed in Table 1, except for export in accordance with FIFRA section 17 (7 U.S.C. 136o), or proper disposal. Persons other than the registrants listed in Table 2 may sell, distribute, or use existing stocks of products listed in Table 1 of Unit III. until existing stocks are exhausted, provided that such sale, distribution, or use is consistent with the terms of the previously approved labeling on, or that accompanied, the canceled products.

No sale or distribution of products listed in Table 3 shall be permitted. Under EPA's existing stocks policy, if a registrant fails to pay the appropriate maintenance fee and the product subject to that fee is later canceled, the registrant will generally not be allowed to sell or distribute existing stocks of the cancelled product more than 1 year after the date the maintenance fee was due. Here, registrants of products listed in Table 3 were required to submit maintenance fees by January 17, 2023. More than one year has elapsed since that date, so no sale or distribution of existing stocks is being permitted. Persons other than registrants listed in Table 4 may sell, distribute, or use existing stocks of products listed in Table 3 until existing stocks are exhausted, provided that such sale, distribution, or use is consistent with the terms of the previously approved labeling on, or that accompanied, the canceled products.

Authority: 7 U.S.C. 136 et seq.

Dated: September 26, 2024.
Charles Smith,
Director, Registration Division, Office of Pesticide Programs.

[FR Doc. 2024-23381 Filed 10-15-24; 8:45 am]

BILLING CODE 6560-50-P